DEPARTMENT OF COMMERCE

National Oceanic and Atmospheric Administration

50 CFR Part 660

[Docket No. 191106-0077]

RIN 0648-BI89

Magnuson-Stevens Act Provisions; Fisheries Off West Coast States; Pacific Coast Groundfish Fishery; Pacific Fishery Management Plan; Amendment 28

AGENCY: National Marine Fisheries Service (NMFS), National Oceanic and Atmospheric Administration (NOAA), Commerce.

ACTION: Final rule.

SUMMARY: In this rule NMFS implements Amendment 28 to the Pacific Coast Groundfish Fishery Management Plan, changing closed areas that affect commercial vessels fishing with bottom contacting gear in Federal waters off of Washington, Oregon, and California under the Pacific Coast Groundfish Fishery Management Plan. The final rule establishes new and revised areas closed to bottom trawling to conserve and protect Pacific coast groundfish essential fish habitat, and re-open areas that were closed to bottom trawling to rebuild previously-overfished groundfish stocks. Combined, these two changes increase protections for groundfish essential fish habitat and provide additional flexibility to participants fishing with bottom trawl gear in the groundfish trawl rationalization program. Amendment 28 also closes deep-water areas off the coast of California to bottom contacting gear to protect deep-water habitats, including deep-sea corals, under fishery management plan discretionary provisions in the Magnuson-Stevens Fishery Conservation and Management Act.

DATES: This final rule is effective on January 1, 2020.

ADDRESSES: Information relevant to Amendment 28, which includes a Final Environmental Impact Statement, a regulatory impact review, a Regulatory Flexibility Act certification, and a Record of Decision are available for public review during business hours at the NMFS West Coast Regional Office at 7600 Sand Point Way NE, Seattle, WA 98115, or by requesting them via phone or the email address listed in the FOR FURTHER INFORMATION CONTACT. Copies of additional reports referred to in this document may also be obtained from the Pacific Fishery Management Council. These documents are also available at the Council's website at http://www.pcouncil.org/groundfish/fishery-management-plan/groundfish-amendments-in-development/. Additional background documents are available at the NMFS West Coast Region website at https://www.fisheries.noaa.gov/region/west-coast.

FOR FURTHER INFORMATION CONTACT: Gretchen Hanshew, phone: 206-526-6147, or email: Gretchen.Hanshew@noaa.gov.

SUPPLEMENTARY INFORMATION:

Table of Contents

Executive Summary

Purpose of This Regulatory Action

Major Provisions

Revisions to EFH Conservation Areas

Changes to Fishery Management Measures

Bottom Trawl Rockfish Conservation Area

Bottom Trawl Block Area Closures

Discretionary Management Measures To Protect Deep-Water Habitats, Including Deep-Sea Corals

Response to Comments

Changes From the Proposed Rule

Grays Canyon EFH Conservation Area

Clarifications and Non-Substantive Changes

Classification

Executive Summary

This final rule implements management measures from Amendment 28 to the Pacific Coast Groundfish Fishery Management Plan (FMP) that would augment existing essential fish habitat (EFH) protection measures, reopen historically important fishing grounds, and protect deep-water habitats, including deep-sea corals. This final rule implements all of the Council's recommendations. NMFS published the proposed rule to implement Amendment 28 on August 15, 2019 (84 FR 41818). The Secretary of Commerce approved Amendment 28 on September 9, 2019. The comment period on the proposed rule ended on September 16, 2019. NMFS received 22 comments on the proposed rule. A summary of those comments and responses from NMFS are provided in the Comments and Responses section of this preamble.

Purpose of This Regulatory Action

This final rule establishes measures that conserve and protect EFH from the impacts of fishing, to achieve optimum yield, and ensure that these measures are based on the best scientific information available. This final rule includes changes to areas closed to bottom trawl fishing to protect EFH, called EFH conservation areas. When combined with existing EFH conservation areas, these measures are anticipated to minimize, to the extent practicable, the adverse effects of fishing on EFH. This final rule also revises management measures put in place to rebuild overfished groundfish stocks to meet the utilization goal in the FMP. The FMP utilization goal directly relates to National Standard 1 of the Magnuson-Stevens Fishery Conservation and Management Act (Magnuson-Stevens Act), stating that conservation and management measures shall prevent overfishing while achieving, on a continuing basis, the optimum yield from each fishery for the United States fishing industry. This final rule also closes deep water off California to certain gear types using Magnuson-Stevens Act discretionary authority to protect deep-water habitats, including deep-sea corals. Additional details about the goals and objectives of this final rule can be found in the preamble to the proposed rule (84 FR 41818; August 15, 2019). This final rule also makes one substantive change and minor, non-substantive technical corrections and clarifications to the regulations presented in the proposed rule.

Major Provisions

This final rule contains three categories of major provisions. The first are new and revised EFH conservation areas, which are defined with latitude and longitude coordinates and restrict groundfish and non-groundfish (e.g., ridgeback prawn, California halibut, sea cucumber) bottom trawl fishing. The second are changes relating to fishery management measures, specifically depth-based area closures, for groundfish bottom trawl gear off Oregon and California. The third is a new deep-water area closed to all bottom contacting fishing gear to protect deep-water habitats.

Revisions to EFH Conservation Areas

The Council undertook an extensive, formal public process to develop alternatives and conduct environmental impacts analysis of changes to habitat management, between 2013 and 2018, described in the proposed rule preamble. The Council requested public input and received several proposals for habitat management changes in response. After initial screening and public comment, the Council selected all or part of several proposals and developed suites of potential EFH conservation area changes, which formed the preliminary range of alternatives. From these alternatives, the Council, in April 2018, adopted a final preferred alternative.

This final rule closes over 12,000 square miles (31,000 square km) of the exclusive economic zone (EEZ) and re-opens over 200 square miles (518 square km) of the EEZ to bottom trawl gear, which adversely affects groundfish EFH. The new closures protect a variety of ocean floor types (substrates) designated as groundfish EFH, and include areas designated as habitat areas of particular concern. In particular, these closed areas protect submarine canyons, seamounts, methane seeps, deep-sea corals as well as stationary three-dimensional invertebrates like sponges and corals. Revisions to existing EFH conservation areas expand closures to protect important habitat features, but reopen habitats with lower sensitivity and faster recovery to disturbance. Impacts to fishing communities are anticipated to be minimal, because very little fishing effort occurred in the closed areas (less than 2 percent of the total groundfish landings and revenues on either a coastwide or port-group level). Overall, this final rule, in combination with existing habitat management measures that remain unchanged, minimizes the adverse effects of fishing on groundfish EFH while mitigating negative socioeconomic effects to fishing communities.

Changes to Fishery Management Measures

This final rule balances the conflicting need to restrict fishing to protect the resource with providing sufficient allowable catch to sustain the fleet and coastal communities.

Bottom Trawl Rockfish Conservation Area

This final rule re-opens a depth-based bottom trawl closure that has been in place coastwide since 2002. This closure, referred to as the groundfish trawl Rockfish Conservation Area (trawl RCA), prohibited fishing with limited entry groundfish trawl gear to reduce impacts to species that were overfished at that time (Pacific Ocean perch and darkblotched rockfish). This final rule re-opens the trawl RCA to bottom trawling in the Shorebased Individual Fishing Quota Program off of Oregon and California, an area of over 2,000 square miles (5,180 square km). Areas closed to bottom trawling that overlap with the trawl RCA, such as EFH conservation areas and California state waters, remain closed to bottom trawling. NMFS is making this change because of the success of the trawl rationalization program and other commercial and recreational fishing innovations that have reduced bycatch. Improvements to scientific information regarding biology of stocks and their population dynamics have led to revised methods and modeling parameters that are more accurate than in the past. Since 2011, six of the seven previously overfished stocks are now rebuilt. The areas this rule reopens were historically important fishing grounds, and it is anticipated that groundfish fishermen will have more flexibility and opportunities to improve the efficiency of their operations, which will benefit coastal communities. Additionally, the areas this rule reopens are predominantly substrates that are the most resilient to disturbance and, when combined with the protections to EFH in this rule, adverse effects to designated groundfish EFH are minimized to the extent practicable. When considered together (EFH conservation areas and the trawl RCA overlap in places), changes to the coastwide network of EFH conservation areas and the reopening of the trawl RCA off Oregon and California result in new bottom trawl closures totaling 13,151 square miles (34,061 square km) and reopening of 2,958 square miles (7,661 square km).

The existing trawl RCA will remain in effect off Washington, which means that fishing with bottom trawl gear and transiting without bottom trawl gear stowed is prohibited within the boundaries of the trawl RCA. The changes from this rule to the trawl RCA have no effect on vessels fishing with midwater trawl gear and depth-based restrictions on midwater trawl fishing off California remain in place.

Bottom Trawl Block Area Closures

Reopening an area that has not been fished with bottom trawl gear for over 15 years is not without risk. This final rule implements a new discrete spatial management tool that is more flexible and responsive than the trawl RCA. Block Area Closures (BACs) could be used to restrict groundfish bottom trawling within any portion of the EEZ and state waters off Oregon and California. No BACs are implemented in this final rule, but as a future action the Council may recommend that NMFS close one or more BACs via routine inseason action and the size of the BACs can vary. A Federal Register notice will announce boundaries of one or more BACs, within which groundfish bottom trawling would be prohibited for a period of time. With the deep-water closure enacted by this rule, bottom trawling is now closed within the entire EEZ seaward (west) of a boundary line approximating the 700 fm (1,280 m) depth contour. BACs could be defined on the east and west by two boundary lines approximating depth contours, or by language describing the BACs as “seaward of” or “shoreward of” any of the depth contours described in Table 1 below. So BACs could, if implemented to the maximum extent, close the entire area between the shore and outer boundary of the EEZ (acknowledging that seaward of the 700 fm (1,290 m) depth contour is already closed and a BAC there has no on-the-water effect). BACs, when implemented would be bounded by specific latitudes and depths, as shown in Table 1 below, and described with coordinates in regulations.

Table 1—Geographic Coordinates (Latitudes) and Depth-Based Boundary Lines That May Be Used To Define the Boundaries of BACs Off Oregon and Washington
State | Commonly used geographic coordinates (50 CFR 660.11) (North-South) | Boundary lines approximating depth contours (50 CFR 660.71-74) (East-West)
Oregon (OR) | Columbia River—46°16.00′ N lat., Cape Falcon, OR—45°46.00′ N lat., Cape Lookout, OR—45°20.25′ N lat., Cascade Head, OR—45°03.83′ N lat., Heceta Head, OR—44°08.30′ N lat., Cape Arago, OR—43°20.83′ N lat., Cape Blanco, OR—42°50.00′ N lat., Humbug Mountain—42°40.50′ N lat., Marck Arch, OR—42°13.67′ N lat | 20 fm (37 m), 25 fm (46 m), 25 fm (46 m) modified, 30 fm (55 m), 40 fm (73 m), 50 fm (91 m), 60 fm (110 m), 75 fm (137 m), 100 fm (183 m), 125 fm (229 m), 150 fm (274 m), 150 fm (274 m) modified, 180 fm (329 m) coastwide, 200 fm (366 m), 200 fm (366 m) modified, 250 fm (457 m), 250 fm (457 m) modified.
California (CA) | Oregon/California border—42°00.00′ N lat., Cape Mendocino, CA—40°30.00′ N lat., North/South management line—40°10.00′ N lat., Cape Vizcaino, CA—39°44.00′ N lat., Point Arena, CA—38°57.50′ N lat., Point San Pedro, CA—37°35.67′ N lat., Pigeon Point, CA—37°11.00′ N lat., Ano Nuevo, CA—37°07.00′ N lat., Point Lopez, CA—36°00.00′ N lat., Point Conception, CA—34°27.00′ N lat., U.S./Mexico Border, southern bound of EEZ | 30 fm (55 m), 40 fm (73 m), 50 fm (91 m), 60 fm (110 m), 75 fm (137 m), 100 fm (183 m), 125 fm (229 m), 150 fm (274 m), 150 fm (274 m) modified (northern CA only), 180 fm (329 m) coastwide, 180 fm (329 m) modified, 200 fm (366 m), 200 fm (366 m) modified, 250 fm (457 m), 250 fm (457 m) modified.
Note: East-west boundaries of BACs may also include the seaward boundary of the EEZ or the shoreline, though they are not defined with coordinates in regulation.

BACs may be closed to vessels fishing for groundfish with bottom trawl gear in the Shorebased Individual Fishing Quota Program to meet various fishery management goals. These goals include, but are not limited to, reducing bycatch of protected species and preventing overfishing. BACs cannot be used to close an area to any type of fishing other than groundfish bottom trawling.

The following examples are hypothetical and illustrate possible uses of BACs, and are not limiting. BACs may be used in scenarios not discussed in these examples. Example 1: Best estimates indicate catches of an individual fishing quota (IFQ) species have exceeded the annual trawl allocation for that species. The Council could consider using BACs to close areas (bounded by depth and latitude, off Oregon and California) where that species has been caught with bottom trawl gear in recent years. Example 2: Best estimates indicate that incidental salmon catch with bottom trawl gear is projected to exceed the thresholds in the incidental take statement. The Council could consider using BACs to close areas where salmon have been caught with limited entry bottom trawl gear in recent years.

This rule allows NMFS to close or reopen BACs pre-season or in-season, consistent with Council recommendations. The approach would be consistent with existing “routine inseason” frameworks already in the FMP and regulations. NMFS would implement changes to BACs through inseason action via a single Federal Register notice, if good cause exists under the Administrative Procedure Act to waive notice and comment. When deciding whether to use BACs, the Council will consider environmental impacts, including economic impacts, and public comment via the Council process. Depending on the circumstances, the Council may close areas for a short period of time, such as the remainder of the fishing year, or leave it closed for a longer period of time, such as until reopened by a subsequent action. The period of time that BACs would be in effect, as well as the Council's purpose and rationale, will be described in the Federal Register notice. NMFS would also announce the boundaries and duration of the BACs through public notices and on the West Coast Region website (see ADDRESSES). If NMFS also revises its codified regulations to describe the BACs, such information will appear in Table 1 (North) and Table 1 (South) to subpart D. See the Changes from the Proposed Rule section for additional details.

Discretionary Management Measures To Protect Deep-Water Habitats, Including Deep-Sea Corals

The 2007 reauthorization of the Magnuson-Stevens Act added discretionary authority for Councils to restrict fishing activities, protect deep-sea corals, and recommend measures to meet other ecological goals and objectives.

This final rule creates a new deep-water closure to prohibit prospective fishing with certain gears to protect deep-water habitats, including deep sea corals, consistent with Council recommendations. Deep-sea habitats are sensitive to disturbance and slow to recover. Therefore, the closure would apply to any vessel fishing any gear designed to make contact with the bottom. The definition of bottom contact gear is not being revised in this rule and includes, but is not limited to, bottom trawl, dredge, long-leader hook and line gear, and fixed gears like longline, trap or pot, set net, and stationary hook-and-line gears. This closure covers over 123,000 square miles (318,569 square km), and includes the entire EEZ south of Mendocino Ridge seaward (west) of approximately 1,900 fathoms (3,500 m).

Response to Comments

During the public comment periods for the Notice of Availability (NOA) and the proposed rule for this amendment, we received 37 distinct comments from over 15,000 individuals and 24 entities, two of which were not responsive to the action. NMFS received 22 unique comment letters from individuals. Those comments ranged from supporting the proposed rule to asking for an end to commercial fishing. NMFS received 15 unique comment letters submitted by 24 entities, one of which was signed by 16 businesses or non-governmental organizations. Five entities, including Washington Department of Fish and Wildlife, Quinault Indian Nation, Oceana, PEW Charitable Trusts, and Earth Justice, requested minor changes to the regulations in the proposed rule.

Comment 1: Six private citizens advocated for an end to all commercial fishing or commercial bottom trawling to protect natural resources. One commenter opposed bottom trawl fishing but expressed support for Amendment 28 until such time as all bottom trawling is ceased.

Response: Reducing commercial or commercial bottom trawl fishing opportunity was not one of the goals and objectives of Amendment 28, and was therefore not considered in this action. This action sought to review best available scientific information to minimize the effects of fishing on EFH, while balancing economic impacts on fishing communities by allowing access to productive fishing grounds. This was achieved through changes in EFH conservation areas, adding over 12,000 square miles (31,000 square km) of closures and reopening over 200 square miles (518 square km) to commercial bottom trawl fishing. This action also sought to relieve area restrictions, specifically the trawl RCA, to provide groundfish bottom trawl vessels with increased flexibility to achieve optimum yield and economic efficiency, while balancing risks to protected and overfished species. This was achieved through re-opening the trawl RCA off Oregon and California, over 2,000 square miles (5,180 square km) of historically important fishing grounds, and establishing a new, more responsive and flexible management tool called BACs. This action also sought to protect deep-water habitats, including deep-sea corals, from damage of prospective fishing with bottom-contacting gears. This was achieved through a closure of over 123,000 square miles (318,569 square km) to fishing with bottom-contacting gears, protecting sensitive habitats that are slow to recover from damage.

Comment 2: Eleven private citizens were opposed to reopening areas that are currently closed to bottom trawl fishing because this type of fishing can damage the ocean floor. Commenters advocated that some areas of the ocean should remain closed to bottom trawling and cautioned against relieving restrictions for non-selective fishing gears like bottom trawl gear. Two commenters specifically requested that nearshore trawling should be limited to reduce disruption of recreational fisheries. The commenters asserted that re-opening areas to commercial trawling would cause overharvest and negatively affect recreational fisheries, would cause damage to the environment, and is not supported by science.

Response: NMFS acknowledges that bottom trawl fishing can damage the ocean floor, and this final rule was designed to close new areas to protect sensitive ocean floor habitats from the negative effects of bottom trawling. With the area closure changes in this rule are combined with existing restrictions, approximately 70 percent of the U.S. West Coast EEZ (between 3 nautical miles (5.6 km) and 200 nautical miles (370.4 km) off Washington, Oregon and California) is closed to commercial bottom trawl fishing. Trawl gear is less selective than other gears like longline or fish pot gear, but this action is not intended to reduce harvest opportunities for vessels fishing with bottom trawl gear (see Comment 1). Existing rules govern the bottom trawl fishery to manage and monitor harvest, and gear specifications to reduce bycatch and mitigate the environmental impacts of fishing and are not revised with this rule. The individual accountability in the Shorebased IFQ Program in which these vessels fish for groundfish with bottom trawl gear has increased incentives for fishermen to reduce waste and prevents overharvest with close catch monitoring. If a vessel exceeds the quota available to it, it cannot fish again until the quota deficit is resolved.

Amendment 28 does not change harvest specifications or increase the amount of quota available to bottom trawl fishermen, nor does it decrease the amount of quota available to recreational fishermen. Re-opening historically important fishing grounds does not mean that harvest will increase to historic levels due to various catch controls that prevent overfishing and ensure a sustainable commercial bottom trawl fishery. The results of our analysis indicate that re-opening areas to bottom trawl fishing will not appreciably increase the risk of overfishing because of these catch controls.

Amendment 28 is unlikely to negatively affect recreational fishermen or disrupt recreational fisheries. Recreational fishermen often fish in waters above underwater structures such as rocky reefs. Underwater structures and rocky reefs, if not closed to bottom trawling by EFH conservation areas, are generally not fished with bottom trawl gear because these structures damage bottom trawl gear and the repairs can be costly. Coastwide, this rule re-opens less than 200 square miles (518 square km) of area shoreward of 100 fm (183 m) and no area shoreward of 30 fm (55 m), which is the deepest depth that recreational fisheries are commonly allowed to fish. Because this action does not change trawling activity in nearshore regions, or around natural and artificial ocean habitats commonly targeted by recreational fishermen, no disruption of recreational fisheries is anticipated.

The results of our analysis indicate that Amendment 28 will benefit habitat and fish resources. Amendment 28 would increase the number of square miles that are closed to bottom trawl fishing off the coasts of Washington, Oregon, and California. Bottom trawl closures would increase by over 10,000 square miles (25,900 square km), an increase of approximately 69 percent compared to the status quo. These EFH closures were designed to close sensitive benthic habitats while keeping negative socioeconomic impacts low. The areas that would be re-opened (over 2,000 square miles, or 5,180 square km) to bottom trawl fishing are estimated to be predominately soft substrate, which is the type of habitat most resilient to the negative effects of bottom trawl fishing. We have determined that Amendment 28 balances requirements to protect EFH with the requirements of the Magnuson-Stevens Act's National Standards 1 and 8 for achieving optimum yield and supporting fishing communities.

The changes to EFH conservation areas, changes to the trawl RCAs, and deep sea habitat protections in Amendment 28 are based on analyses that use the best scientific information available, consistent with National Standard 2 of the Magnuson-Stevens Act. The best scientific information available regarding benthic habitats is primarily seafloor mapping. High resolution mapping, where available, was used to inform the analysis. For areas where high resolution mapping was unavailable, inferences regarding habitat types were made based on available data. The analysis also used available data from research surveys and the scientific literature to infer habitat suitability. The best scientific information available to assess impacts to fish resources, the socioeconomic environment, and protected resources included the most recently available fishery information.

Comment 3: Four private citizens urged NMFS to adopt only the conservation aspects of the proposed rule.

Response: NMFS agrees that the new closed areas to protect groundfish EFH are necessary and is implementing those provisions with this final rule. One of the goals of this action was to maintain fishing opportunities and to increase flexibility and efficiency (see Comment 1). Implementing conservation provisions alone would not have met the goals relating to sustainable seafood production and supporting coastal economies. The final rule appropriately balances NMFS's duties under the Magnuson-Stevens Act to conserve marine resources while simultaneously creating opportunities to achieve optimum yield.

Comment 4: Sixteen of the unique comment letters expressed general support for the proposed rule, including a comment letter signed by 16 non-governmental organizations. In addition to their own letter, Oceana also submitted a letter of support with 15,842 signatures of residents of the United States and its territories. Commenters support the protections to the living seafloor and the restoration of commercial fishing opportunities, and appreciate how Amendment 28 supports both habitat conservation and sustainable fisheries. One comment letter supported the proposed rule with the caveat that it is an appropriate measure until future actions consider ceasing all bottom trawling (see Comment 1). Overall, these sixteen letters, endorsed by over 15,000 people and 20 entities, support all major aspects of the proposed rule and recognize that it was widely supported by stakeholders and the public during the Council process.

Response: NMFS agrees that this final rule appropriately balances NMFS's duties under the Magnuson-Stevens Act to conserve marine resources while simultaneously creating opportunities to achieve optimum yield and extends gratitude for the engagement and contributions of stakeholders, non-governmental organizations, scientists, and the public during this long process.

Comment 5: Washington Department of Fish and Wildlife and the Quinault Indian Nation both submitted comment letters with identical, revised latitude and longitude coordinates for the Grays Canyon northern modification. They ask NMFS to revise the coordinates from the proposed rule to better meet the Council's intent by expanding the closed area approximately 2 miles (3.2 km) east to better align with the 2018 adjudicated seaward boundary of the Quinault Indian Nation's usual and accustomed fishing area (U&A). Three other commenters, including Oceana, PEW Charitable Trusts, and Earth Justice, also suggested that the Grays Canyon northern modification should be expanded to better meet the Council's intent, protecting glass sponges in the area seaward of the U&A.

Response: NMFS evaluated additional information submitted during the public comment period and determined that the Grays Canyon EFH conservation area northern modification should expand approximately 2 miles (3.2 km) east to better align with the 2018 adjudicated seaward boundary of the Quinault Indian Nation's U&A, consistent with the Council's recommendation. See the Changes from the Proposed Rule section for additional discussion.

Comment 6: Oceana and Earth Justice requested that NMFS change the name of the “Discretionary Conservation Area” so that it would not be mistaken for a voluntary closure when it is intended to be a mandatory closure to fishing with bottom contacting gears. Both suggested calling it the “Deep-sea Ecosystem Conservation Area” as it would more accurately reflect the reason for the closure and its mandatory nature.

Response: NMFS determined that having “discretionary” in the name of the deep-water closed area could be misleading to the regulated public given that the closure is mandatory. See the Changes from the Proposed Rule section for additional discussion.

Comment 7: Oceana suggested NMFS add an additional point, at 33°34.71′ N lat., 118°11.40′ W long., in the line that defines the portion of the Southern California Bight EFH conservation off San Pedro Bay, California. The Southern California Bight EFH conservation area is defined as the areas of the EEZ seaward of these line segments. One of the line segments overlaps with the existing Catalina Island EFH conservation area, so a corner of the Catalina Island EFH conservation area is shoreward of the line segment. The suggested coordinate is the same as the corner of the Catalina Island EFH conservation area and would clarify that the northern corner of the Catalina Island EFH conservation area, would not be mistaken as open to bottom trawling.

Response: NMFS acknowledges that the line segment off San Pedro Bay, California, could be misunderstood. The northern tip of the Catalina Island EFH conservation area, which is not revised in this final rule, remains closed. NMFS is including the added point in this final rule to make it clear that areas not proposed to be reopened remain closed. See the Changes from the Proposed Rule section for additional discussion.

Comment 8: Oceana expressed that it is their understanding that EFH conservation areas that have a portion of their boundaries adjoining and defined by the state water line (three nautical miles offshore) are not difficult for fishing vessels to comply with because it is a boundary well established in law, on nautical charts and is generally well understood by commercial fishermen. Fishermen have the knowledge and technology on their fishing vessels to know where this boundary is located. Oceana suggests that if NMFS is concerned about compliance, it could consider defining the EFH conservation areas with latitude and longitude coordinates that closely match the state water line.

Response: NMFS is satisfied that the state water boundary is commonly known, appears on most nautical charts, and can be navigated using common commercial fishing technologies. If, after implementation, NMFS identifies compliance or enforcement issues with EFH conservation areas with boundaries not exclusively defined with latitude and longitude coordinates, NMFS may alert the Council and request consideration of alternatives to more clearly define these areas with latitude and longitude coordinates in regulations.

Comment 9: Oceana requests that the next time NMFS analyzes the effects of changes to conservation areas (e.g., EFH conservation area or RCA changes) the combined habitat net effects should also be considered at the scale of biogeographic regions (e.g., northern slope, etc.) and depth zones, and not just coastwide.

Response: The Council developed Amendment 28 based on various goals and objectives (described in detail in the proposed rule). One of the objectives for habitat protection was to protect a diversity and range of habitats. NMFS notes that this objective is not a mandate or requirement of the Magnuson-Stevens Act or the FMP. NMFS agrees that considering effects at a finer spatial scale could be informative to ensure adequate protections are in place across a diverse range of habitat types, if this objective remains among the Council's objectives of future conservation area changes. The Council has stated its intent to incorporate lessons learned from the Amendment 28 process into the next 5-year review, which is expected to commence in 2024 or 2025. The Council may consider changes to habitat management as a result of the next 5-year review. If that should occur, the Council would likely consider a variety of objectives to guide future changes.

Comment 10: Oceana requests that NMFS implement measures to improve the level of precision that vessel monitoring systems monitor for compliance with closed areas, including the new closed areas in this final rule.

Response: It is for this reason that the Council recommended and NMFS is implementing an increase to the rate that vessel monitoring systems report the position of the fishing vessel. NMFS published a proposed rule that will increase the rate from once every hour to once every 15 minutes on October 10, 2019 (84 FR 54579).

Comment 11: One private citizen commented that NMFS should, in addition to supporting recreational anglers and commercial fishermen, support indigenous people's fishing heritage.

Response 11: NMFS supports the exercise of tribal treaty fishing rights and this action was developed with input from the treaty tribes with fishing rights on the coast. To that end, this final rule includes no changes to fishing regulations (tribal or non-tribal) within the tribal U&A fishing areas off the northern and central coast of Washington.

Changes From the Proposed Rule

Regulations implemented in this final rule are unchanged from those in the proposed rule, except as described below. There is one substantive change, to the shape and extent of the Grays Canyon North EFH conservation area. NMFS discussed this issue with the Council at the September 11-18, 2019 Council meeting. The rest of the changes described below are not substantive and do not impact the intent or implementation of the provisions in this rule. NMFS consulted with the Council on all regulation changes, as required by section 304(b)(3) of the MSA, through an exchange of letters dated October 9, 2019 and October 17, 2019. The locations and descriptions of regulations implemented in this final rule are described in greater detail the proposed rule.

Grays Canyon EFH Conservation Area

In the proposed rule, NMFS specifically sought comment on the latitude and longitude coordinates used to define the Grays Canyon EFH conservation area, which incorporated a “northern modification” and a “southern modification.” The Council motion included latitude and longitude coordinates, a description of the northern modification as extending to meet the seaward boundary of the Quinault Indian Nation's tribal U&A, and a discussion that the area in the motion was based on an early alternative for the northern modification. The coordinates, description, and discussion, all unanimously recommended by the Council, each resulted in a slightly differently shaped closed area. To create clearly defined regulatory boundaries, NMFS used only the latitude and longitude coordinates from the motion to incorporate the definition of the northern modification into the Grays Canyon EFH conservation area. This resulted in a slightly smaller closed area that did not incorporate coordinates from the early alternative for the northern expansion, and was also not immediately adjacent to the U&A.

WDFW, the Quinault Indian Nation, Oceana, PEW Charitable Trusts, and Earth Justice recommended in their comment letters on the proposed rule that the Grays Canyon EFH conservation area be expanded to meet the U&A boundary and align with the early alternative while not closing areas within the U&A (see Comment 5 in Response to Comments). WDFW and the Quinault Indian Nation recommended identical coordinates to define the Grays Canyon northern expansion such that it expands to the east to meet coordinates that approximate the western boundary of the U&A. Commenters noted that it was the intent of the motion to protect a glass sponge reef in the area seaward of the U&A by including that area in the EFH conservation area.

NMFS agrees that it was the Council's intent to close this area seaward of the U&A to protect a glass sponge reef, and appreciates the specific latitude and longitude coordinates submitted by WDFW and the Quinault Indian Nation (see Comment 5 in Response to Comments). Regulations that include latitude and longitude coordinates, connected by straight lines, will create a clearly defined closed area and addresses NMFS' concerns with compliance and enforcement. For maximum transparency, the Grays Canyon EFH conservation area will be described with two adjacent polygons that are defined in their own sub-paragraphs, so it is clear which part of the EFH conservation area had a substantive change from the proposed rule. NMFS is implementing the coordinates submitted by WDFW and the Quinault Indian Nation to define the Grays Canyon northern expansion in regulations at § 660.77(f)(1).

NMFS is also adding a single point to the south-central portion of the Grays Canyon EFH conservation area where the revised northern expansion meets up with it, to make it clear that the two polygons (north and south-central) are adjacent. This added point at § 660.77(f)(1)(iii) does not appreciably change the shape or extent of the south-central Grays Canyon EFH conservation area that was in the proposed rule.

Clarifications and Non-Substantive Changes

The following changes to regulations were made from the proposed rule to improve clarity, and to be consistent with current regulations that were not intended to be revised.

Oceana and Earth Justice, in their comment letters on the proposed rule, requested that the new deep-water closure off California be re-named to make it clear that the closure itself is not discretionary (see Comment 6 in Response to Comments). NMFS is implementing the name change from “Discretionary Conservation Area, or DCA” to “Deep-sea Ecosystem Conservation Area, or DECA” in the regulatory definition at § 660.11 and replaced “DCA” with “DECA” in every instance. This change from the proposed rule is not substantive, has no on-the-water effects, and will reduce potential confusion regarding the nature of the closure.

Oceana requested that NMFS add a point to one of the line segments that defines, in part, the Southern California Bight EFH conservation area (see Comment 7 in Response to Comments). NMFS acknowledges that the line segment off San Pedro Bay, California, could be misunderstood, implying that the corner of another overlapping EFH conservation is re-opened. NMFS has added this new point in regulations at § 660.79(bbb)(4), which is coincident with the northern tip of the Catalina Island EFH conservation area. This will make it clear that the northern tip of the Catalina Island EFH conservation area, which is not revised in this final rule, remains closed. This change from the proposed rule will reduce potential confusion regarding the shape of EFH conservation areas in that area.

At § 660.11, the definition of “groundfish conservation area” is clarified so it does not imply that Bycatch Reduction Areas (BRAs) can vary by latitude, because they are coastwide closures and it was not the intent of the proposed definition to imply that the BRAs could vary or be defined with latitudes. This change from the proposed rule will reduce potential confusion regarding the spatial extent of BRAs. Also in paragraph (2) of this definition the word “prohibitions” is added to read thus, “Fishing prohibitions associated with EFHCAs, which are found at §§ 660.12, 660.112, 660.212, and 660.312, are in addition to those prohibitions associated with other conservation areas.” The second “prohibitions” is added to clarify that the additional applicable regulations are prohibitions.

At § 660.130(c)(2)(ii), the footrope size restrictions to mitigate salmon bycatch in the area between 42° N lat. and 40°10′ N lat. were inadvertently omitted in the proposed rule when paragraph (c)(2) was re-published. This final rule includes paragraph (ii), maintaining existing gear restrictions in that area to mitigate salmon bycatch. The subsequent sub-paragraph is renumbered as (iii) and is not otherwise changed from the proposed rule. This change from the proposed rule will make it clear that gear restrictions to mitigate salmon bycatch in this area remain unchanged.

BACs may be implemented in regulations inseason through a single Federal Register notice if good cause exists to waive notice and comment under the Administrative Procedures Act, as described in the proposed rule. BACs that are not temporary, or will be in place for more than one year, will appear in Table 1 (North) and Table 1 (South) to subpart D. Table 1 (North) and Table 1 (South) to subpart D in 50 CFR part 660 in the proposed rule did not mention BACs may appear in those tables. A placeholder noting that BACs may be described in Table 1 (North) and Table 1 (South), is added in this final rule. This change from the proposed rule will make it clear that BACs may be described in this location and does not change how BACs will be implemented.

Classification

Pursuant to section 304(b)(1)(A) of the Magnuson-Stevens Act, the NMFS Assistant Administrator has determined that this final rule is consistent with the FMP, Amendment 28 to the FMP, the Magnuson-Stevens Act, and other applicable laws.

This final rule has been determined to be not significant for purposes of Executive Order (E.O.) 12866. This final rule is considered an Executive Order 13771 deregulatory action.

NMFS prepared an FEIS for this action, which addresses the requirements of the National Environmental Policy Act. The full suite of alternatives considered by NMFS can be found on the NMFS website at www.fisheries.noaa.gov. The FEIS examined the environmental impacts of EFH conservation area changes, re-opening of the trawl RCA, and deep-water fishing restrictions separately and cumulatively. Considering each of the three types of changes separately was warranted based on differing goals and objectives. Considering these changes cumulatively was necessary because of spatial overlap of different alternatives. The Record of Decision (ROD) was signed by NMFS on September 9, 2019. A copy of the FEIS or ROD is available from NMFS (see ADDRESSES).

The Chief Counsel for Regulation of the Department of Commerce certified to the Chief Counsel for Advocacy of the Small Business Administration (SBA) at the proposed stage that this rule would not have a significant economic impact on a substantial number of small entities. No comments were received on that certification nor do any of the changes to the proposed rule necessitate a need to reconsider the certification.

Pursuant to Executive Order 13175, this final rule was developed after meaningful consultation and collaboration with the tribal representative on the Council who has agreed with the final rule. None of the provisions in this final rule apply to tribal vessels operating in tribal usual and accustomed fishing areas.

This final rule does not contain policies with Federalism or “takings” implications as those terms are defined in E.O. 13132 and E.O. 12630, respectively.

List of Subjects in 50 CFR Part 660

Fisheries, Fishing, Reporting and recordkeeping requirements.

Dated: November 7, 2019.
Samuel D. Rauch III,
Deputy Assistant Administrator for Regulatory Programs, National Marine Fisheries Service.

For the reasons set out in the preamble, 50 CFR part 660 is amended as follows:

PART 660—FISHERIES OFF WEST COAST STATES

1. The authority citation for part 660 continues to read as follows:

Authority: 16 U.S.C. 1801 et seq., 16 U.S.C. 773 et seq., and 16 U.S.C. 7001 et seq.

2. In § 660.11, revise the definition of “Conservation area(s),” and add a definition for “Exclusive Economic Zone or EEZ” in alphabetical order to read as follows.

§ 660.11 General definitions.

* * * * *

Conservation area(s) means an enclosed geographic area defined by coordinates expressed in degrees latitude and longitude where NMFS may prohibit fishing with particular gear types. Conservation areas include Groundfish Conservation Areas (GCA), Essential Fish Habitat Conservation Areas (EFHCA) and Deep-sea Ecosystem Conservation Areas (DECA).

(1) Groundfish Conservation Area or GCA means a conservation area created or modified and enforced to control catch of groundfish or protected species. Regulations at § 660.60(c)(3) describe the various purposes for which NMFS may implement certain types of GCAs through routine management measures. Regulations at § 660.70 further describe and define coordinates for certain GCAs, including: Yelloweye Rockfish Conservation Areas; Cowcod Conservation Areas; waters encircling the Farallon Islands; and waters encircling the Cordell Banks. GCAs also include depth-based closures bounded by lines approximating depth contours, including Bycatch Reduction Areas or BRAs, or bounded by depth contours and lines of latitude, including, Block Area Closures or BACs, and Rockfish Conservation Areas or RCAs, which may be closed to fishing with particular gear types. BRA, BAC, and RCA boundaries may change seasonally according to conservation needs. Regulations at §§ 660.71 through 660.74 define depth-based closure boundary lines with latitude/longitude coordinates. Regulations at § 660.11 describe commonly used geographic coordinates that define lines of latitude. Fishing prohibitions associated with GCAs are in addition to those associated with other conservation areas.

(i) Block Area Closures or BACs are defined at § 660.111.

(ii) Bycatch Reduction Areas or BRAs are conservation areas that apply to vessels using midwater groundfish trawl gear during the Pacific whiting primary season, as described at §§ 660.60(d) and 660.131(c).

(iii) Cordell Banks is defined at § 660.70.

(iv) Cowcod Conservation Areas are defined at § 660.70.

(v) Farallon Islands is defined at § 660.70.

(vi) Rockfish Conservation Areas or RCAs. RCA restrictions are detailed in subparts D through G of this part. RCAs may apply to a single gear type or to a group of gear types such as “trawl RCAs” or “non-trawl RCAs.” Specific latitude and longitude coordinates for RCA boundaries that approximate the depth contours selected for trawl, non-trawl, and recreational RCAs are provided in §§ 660.71 through 660.74. Also provided in §§ 660.71 through 660.74, are references to islands and rocks that serve as reference points for the RCAs.

(A) Trawl (Limited Entry and Open Access Non-groundfish Trawl Gears) RCAs. The trawl RCAs are intended to protect a complex of species, such as overfished shelf rockfish species, and have boundaries defined by specific latitude and longitude coordinates approximating depth contours. Boundaries for the limited entry trawl RCA throughout the year are provided in Table 1 (North) subpart D of this part. Boundaries for the open access non-groundfish trawl RCA throughout the year are provided in Table 3 (South) subpart F of this part. Boundaries of the trawl RCAs may be modified by NMFS inseason pursuant to § 660.60(c).

(B) Non-Trawl (Limited Entry Fixed Gear and Open Access Non-trawl Gears) RCAs. Non-trawl RCAs are intended to protect a complex of species, such as overfished shelf rockfish species, and have boundaries defined by specific latitude and longitude coordinates approximating depth contours. Boundaries for the non-trawl RCA throughout the year are provided in Table 2 (North) and Table 2 (South) of subpart E of this part, and Table 3 (North) and Table 3 (South) of subpart F of this part, and may be modified by NMFS inseason pursuant to § 660.60(c).

(C) Recreational RCAs. Recreational RCAs are closed areas intended to protect overfished rockfish species. Recreational RCAs may either have boundaries defined by general depth contours or boundaries defined by specific latitude and longitude coordinates approximating depth contours. Boundaries for the recreational RCAs throughout the year are provided in the text in subpart G of this part under each state (Washington, Oregon and California) and may be modified by NMFS inseason pursuant to § 660.60(c).

(vii) Yelloweye Rockfish Conservation Areas or YRCAs are defined at § 660.70.

(2) Essential Fish Habitat Conservation Area or EFHCA means an area created and enforced to contribute to the protection of groundfish essential fish habitat. Regulations at §§ 660.75 through 660.79 define EFHCA boundaries. Fishing prohibitions associated with EFHCAs, which are found at §§ 660.12, 660.112, 660.212, and 660.312, are in addition to those prohibitions associated with other conservation areas.

(3) Deep-sea Ecosystem Conservation Area or DECA is the area within the EEZ deeper than 3,500 m (1,914 fm) that is not designated as EFH, defined at § 660.75 with latitude and longitude coordinates. The DECA is closed to bottom contact gear for the reasons described under MSA Section 303(b), and contributes to the protection of deep-water habitats including deep-sea corals. Fishing prohibitions associated with DECAs, at § 660.12, are in addition to those associated with other conservation areas.

* * * * *

Exclusive Economic Zone or EEZ is defined at § 600.10. See also Fishery management area of this section.

* * * * *

3. In § 660.12, add paragraphs (a)(16) through (18) to read as follows:

§ 660.12 General groundfish prohibitions.

* * * * *

(a) * * *

(16) Fish with bottom contact gear (defined at § 660.11) within the EEZ in the following EFHCAs (defined at §§ 660.78 and 660.79): Thompson Seamount, President Jackson Seamount, Cordell Bank (50-fm (91-m) isobath), Harris Point, Richardson Rock, Scorpion, Painted Cave, Anacapa Island, Carrington Point, Judith Rock, Skunk Point, Footprint, Gull Island, South Point, and Santa Barbara.

(17) Fish with bottom contact gear (defined at § 660.11), or any other gear that is deployed deeper than 500-fm (914-m), within the Davidson Seamount EFHCA (defined at § 660.79).

(18) Fish with bottom contact gear, defined at § 660.11, in the DECA, defined at § 660.11.

* * * * *

4. In § 660.60, revise paragraphs (c) introductory text and (c)(3)(i) to read as follows:

§ 660.60 Specifications and management measures.

* * * * *

(c) Routine management measures. Catch restrictions that are likely to be adjusted on a biennial or more frequent basis may be imposed and announced by a single notification in the Federal Register if good cause exists under the Administrative Procedure Act (APA) to waive notice and comment, and if they have been designated as routine through the two-meeting process described in the PCGFMP. Routine management measures that may be revised during the fishing year, via this process, are implemented in paragraph (h) of this section, and in subparts C through G of this part, including Tables 1a through 1c, and 2a through 2c to subpart C of this part, Tables 1 (North) and 1 (South) of subpart D of this part, Tables 2 (North) and 2 (South) of subpart E of this part, and Tables 3 (North) and 3 (South) of subpart F of this part. Most trip, bag, and size limits, and some Groundfish Conservation Area closures in the groundfish fishery have been designated “routine,” which means they may be changed rapidly after a single Council meeting. Council meetings are held in the months of March, April, June, September, and November. Inseason changes to routine management measures are announced in the Federal Register pursuant to the requirements of the APA. Changes to trip limits are effective at the times stated in the Federal Register. Once a trip limit change is effective, it is illegal to take and retain, possess, or land more fish than allowed under the new trip limit. This means that, unless otherwise announced in the Federal Register, offloading must begin before the time a fishery closes or a more restrictive trip limit takes effect. The following catch restrictions have been designated as routine:

* * * * *

(3) * * *

(i) Depth-based management measures. Depth-based management measures, particularly closed areas known as Groundfish Conservation Areas, defined in § 660.11, include RCAs, BRAs, and BACs, and may be implemented in any fishery sector that takes groundfish directly or incidentally. Depth-based management measures are set using specific boundary lines that approximate depth contours with latitude/longitude waypoints found at §§ 660.70 through 660.74. Depth-based management measures and closed areas may be used for the following conservation objectives: To protect and rebuild overfished stocks; to prevent the overfishing of any groundfish species by minimizing the direct or incidental catch of that species; or to minimize the incidental harvest of any protected or prohibited species taken in the groundfish fishery. Depth-based management measures and closed areas may be used for the following economic objectives: To extend the fishing season; for the commercial fisheries, to minimize disruption of traditional fishing and marketing patterns; for the recreational fisheries, to spread the available catch over a large number of anglers; to discourage target fishing while allowing small incidental catches to be landed; and to allow small fisheries to operate outside the normal season.

(A) Rockfish Conservation Areas. RCAs, as defined at § 660.11, may be modified as routine action for vessels using trawl gear (off Washington), non-trawl gear (coastwide), or recreational gear (coastwide) consistent with the purposes described in this paragraph (c)(3)(i).

(B) Bycatch Reduction Areas. BRAs may be implemented through automatic action in the Pacific whiting fishery consistent with paragraph (d)(1) of this section. BRAs may be implemented as routine management measures for vessels using midwater groundfish trawl gear consistent with the purposes described in this paragraph (c)(3)(i).

(C) Block Area Closures. BACs, as defined at § 660.111, may be closed or reopened, off Oregon and California, for vessels using limited entry bottom trawl gear, consistent with the purposes described in this paragraph (c)(3)(i).

* * * * *

5. Amend § 660.70 by:

a. Removing the introductory text and paragraphs (n), (o), and (r);

b. Redesignating paragraphs (a) through (m) as (b) through (n); and

c. Adding new paragraphs (a) and (o).

The additions read as follows:

§ 660.70 Groundfish conservation areas.

(a) General. Groundfish conservation area (GCA) is defined in § 660.11. This section defines GCAs whose shapes are not exclusively defined by boundary lines approximating depth contours found in §§ 660.71 through 660.74 or commonly used geographic coordinates at § 660.11. Fishing activity that is prohibited or permitted within a particular GCA is detailed at subparts C through G of part 660.

* * * * *

(o) Cowcod Conservation Areas. The Cowcod Conservation Areas (CCAs) are two areas off the southern California coast intended to protect cowcod.

(1) Western CCA. The Western CCA is an area south of Point Conception defined by the straight lines connecting the following specific latitude and longitude coordinates in the order listed and connecting back to 33°50.00′ N lat., 119°30.00′ W long.:

(i) 33°50.00′ N lat., 119°30.00′ W long.;

(ii) 33°50.00′ N lat., 118°50.00′ W long.;

(iii) 32°20.00′ N lat., 118°50.00′ W long.;

(iv) 32°20.00′ N lat., 119°37.00′ W long.;

(v) 33°00.00′ N lat., 119°37.00′ W long.;

(vi) 33°00.00′ N lat., 119°53.00′ W long.;

(vii) 33°33.00′ N lat., 119°53.00′ W long.; and

(viii) 33°33.00′ N lat., 119°30.00′ W long.

(2) Transit corridor. The Western CCA transit corridor is bounded on the north by the latitude line at 33°00.50′ N lat., and bounded on the south by the latitude line at 32°59.50′ N lat.

(3) Eastern CCA. The Eastern CCA is an area west of San Diego defined by the straight lines connecting the following specific latitude and longitude coordinates in the order listed and connecting back to 32°42.00′ N lat., 118°02.00′ W long.:

(i) 32°42.00′ N lat., 118°02.00′ W long.;

(ii) 32°42.00′ N lat., 117°50.00′ W long.;

(iii) 32°36.70′ N lat., 117°50.00′ W long.;

(iv) 32°30.00′ N lat., 117°53.50′ W long.; and

(v) 32°30.00′ N lat., 118°02.00′ W long.

* * * * *

6. In § 660.71, revise the introductory text to read as follows:

§ 660.71 Latitude/longitude coordinates defining the 10-fm (18-m) through 40-fm (73-m) depth contours.

Boundaries for some GCAs are defined by straight lines connecting a series of latitude/longitude coordinates. This section provides coordinates for the 10-fm (18-m) through 40-fm (73-m) depth contours.

* * * * *

7. In § 660.72, revise the introductory text to read as follows:

§ 660.72 Latitude/longitude coordinates defining the 50 fm (91 m) through 75 fm (137 m) depth contours.

Boundaries for some GCAs are defined by straight lines connecting a series of latitude/longitude coordinates. This section provides coordinates for the 50 fm (91 m) through 75 fm (137 m) depth contours.

* * * * *

8. In § 660.73, revise the introductory text to read as follows:

§ 660.73 Latitude/longitude coordinates defining the 100 fm (183 m) through 150 fm (274 m) depth contours.

Boundaries for some GCAs are defined by straight lines connecting a series of latitude/longitude coordinates. This section provides coordinates for the 100 fm (183 m) through 150 fm (274 m) depth contours.

* * * * *

9. In § 660.74, revise the introductory text and paragraphs (l)(209) and (210) to read as follows:

§ 660.74 Latitude/longitude coordinates defining the 180 fm (329 m) through 250 fm (457 m) depth contours.

Boundaries for some GCAs are defined by straight lines connecting a series of latitude/longitude coordinates. This section provides coordinates for the 180 fm (329 m) through 250 fm (457 m) depth contours.

* * * * *

(l) * * *

(209) 34°27.00′ N lat., 120°42.61′ W long.;

(210) 34°19.08′ N lat., 120°31.21′ W long.;

* * * * *

10. Revise § 660.76 to read as follows:

§ 660.76 Coastwide EFHCAs.

(a) General. EFHCAs are defined at § 660.11. The boundaries of areas designated as EFHCAs are defined by straight lines connecting a series of latitude and longitude coordinates and other regulatory boundaries. This paragraph provides coordinates outlining the boundaries of the coastwide EFHCA. Coordinates outlining the boundaries of EFHCAs off the coasts of Washington, Oregon, and California are provided in §§ 660.77, 660.78, and 660.79, respectively. Fishing activity that is prohibited or permitted within a particular EFHCA is detailed at subparts C through G of this part.

(b) Seaward of the 700-fm (1280-m) contour. This area includes all waters designated as EFH within the West Coast EEZ west of a line approximating the 700-fm (1280-m) depth contour which is defined by straight lines connecting all of the following points in the order stated:

(1) 48°06.97′ N lat., 126°02.96′ W long.;

(2) 48°00.44′ N lat., 125°54.96′ W long.;

(3) 47°55.96′ N lat., 125°46.51′ W long.;

(4) 47°47.21′ N lat., 125°43.73′ W long.;

(5) 47°42.89′ N lat., 125°49.58′ W long.;

(6) 47°38.18′ N lat., 125°37.26′ W long.;

(7) 47°32.36′ N lat., 125°32.87′ W long.;

(8) 47°29.77′ N lat., 125°26.27′ W long.;

(9) 47°28.54′ N lat., 125°18.82′ W long.;

(10) 47°19.25′ N lat., 125°17.18′ W long.;

(11) 47°08.82′ N lat., 125°10.01′ W long.;

(12) 47°04.69′ N lat., 125°03.77′ W long.;

(13) 46°48.38′ N lat., 125°18.43′ W long.;

(14) 46°41.92′ N lat., 125°17.29′ W long.;

(15) 46°27.49′ N lat., 124°54.36′ W long.;

(16) 46°14.13′ N lat., 125°02.72′ W long.;

(17) 46°09.53′ N lat., 125°04.75′ W long.;

(18) 45°46.64′ N lat., 124°54.44′ W long.;

(19) 45°40.86′ N lat., 124°55.62′ W long.;

(20) 45°36.50′ N lat., 124°51.91′ W long.;

(21) 44°55.69′ N lat., 125°08.35′ W long.;

(22) 44°49.93′ N lat., 125°01.51′ W long.;

(23) 44°46.93′ N lat., 125°02.83′ W long.;

(24) 44°41.96′ N lat., 125°10.64′ W long.;

(25) 44°28.31′ N lat., 125°11.42′ W long.;

(26) 43°58.37′ N lat., 125°02.93′ W long.;

(27) 43°52.74′ N lat., 125°05.58′ W long.;

(28) 43°44.18′ N lat., 124°57.17′ W long.;

(29) 43°37.58′ N lat., 125°07.70′ W long.;

(30) 43°15.95′ N lat., 125°07.84′ W long.;

(31) 42°47.50′ N lat., 124°59.96′ W long.;

(32) 42°39.02′ N lat., 125°01.07′ W long.;

(33) 42°34.80′ N lat., 125°02.89′ W long.;

(34) 42°34.11′ N lat., 124°55.62′ W long.;

(35) 42°23.81′ N lat., 124°52.85′ W long.;

(36) 42°16.80′ N lat., 125°00.20′ W long.;

(37) 42°06.60′ N lat., 124°59.14′ W long.;

(38) 41°59.28′ N lat., 125°06.23′ W long.;

(39) 41°31.10′ N lat., 125°01.30′ W long.;

(40) 41°14.52′ N lat., 124°52.67′ W long.;

(41) 40°40.65′ N lat., 124°45.69′ W long.;

(42) 40°35.05′ N lat., 124°45.65′ W long.;

(43) 40°23.81′ N lat., 124°41.16′ W long.;

(44) 40°20.54′ N lat., 124°36.36′ W long.;

(45) 40°20.84′ N lat., 124°57.23′ W long.;

(46) 40°18.54′ N lat., 125°09.47′ W long.;

(47) 40°14.54′ N lat., 125°09.83′ W long.;

(48) 40°11.79′ N lat., 125°07.39′ W long.;

(49) 40°06.72′ N lat., 125°04.28′ W long.;

(50) 39°52.62′ N lat., 124°40.65′ W long.;

(51) 39°52.29′ N lat., 124°34.72′ W long.;

(52) 39°55.19′ N lat., 124°29.32′ W long.;

(53) 39°54.43′ N lat., 124°24.06′ W long.;

(54) 39°44.25′ N lat., 124°12.60′ W long.;

(55) 39°35.82′ N lat., 124°12.02′ W long.;

(56) 39°24.54′ N lat., 124°16.01′ W long.;

(57) 39°01.97′ N lat., 124°11.20′ W long.;

(58) 38°33.48′ N lat., 123°48.21′ W long.;

(59) 38°14.49′ N lat., 123°38.89′ W long.;

(60) 37°56.97′ N lat., 123°31.65′ W long.;

(61) 37°49.09′ N lat., 123°27.98′ W long.;

(62) 37°40.29′ N lat., 123°12.83′ W long.;

(63) 37°22.54′ N lat., 123°14.65′ W long.;

(64) 37°05.98′ N lat., 123°05.31′ W long.;

(65) 36°59.02′ N lat., 122°50.92′ W long.;

(66) 36°51.52′ N lat., 122°22.03′ W long.;

(67) 36°49.09′ N lat., 122°21.84′ W long.;

(68) 36°50.47′ N lat., 122°19.03′ W long.;

(69) 36°50.14′ N lat., 122°17.50′ W long.;

(70) 36°44.54′ N lat., 122°19.42′ W long.;

(71) 36°40.76′ N lat., 122°17.28′ W long.;

(72) 36°39.88′ N lat., 122°09.69′ W long.;

(73) 36°40.02′ N lat., 122°09.09′ W long.;

(74) 36°40.99′ N lat., 122°08.53′ W long.;

(75) 36°41.17′ N lat., 122°08.97′ W long.;

(76) 36°44.52′ N lat., 122°07.13′ W long.;

(77) 36°42.26′ N lat., 122°03.54′ W long.;

(78) 36°30.02′ N lat., 122°09.85′ W long.;

(79) 36°22.33′ N lat., 122°22.99′ W long.;

(80) 36°14.36′ N lat., 122°21.19′ W long.;

(81) 36°09.50′ N lat., 122°14.25′ W long.;

(82) 35°51.50′ N lat., 121°55.92′ W long.;

(83) 35°49.53′ N lat., 122°13.00′ W long.;

(84) 34°58.30′ N lat., 121°36.76′ W long.;

(85) 34°53.13′ N lat., 121°37.49′ W long.;

(86) 34°46.54′ N lat., 121°46.25′ W long.;

(87) 34°37.81′ N lat., 121°35.72′ W long.;

(88) 34°37.72′ N lat., 121°27.35′ W long.;

(89) 34°26.77′ N lat., 121°07.58′ W long.;

(90) 34°18.54′ N lat., 121°05.01′ W long.;

(91) 34°02.68′ N lat., 120°54.30′ W long.;

(92) 33°48.11′ N lat., 120°25.46′ W long.;

(93) 33°42.54′ N lat., 120°38.24′ W long.;

(94) 33°46.26′ N lat., 120°43.64′ W long.;

(95) 33°40.71′ N lat., 120°51.29′ W long.;

(96) 33°33.14′ N lat., 120°40.25′ W long.;

(97) 32°51.57′ N lat., 120°23.35′ W long.;

(98) 32°38.54′ N lat., 120°09.54′ W long.;

(99) 32°35.76′ N lat., 119°53.43′ W long.;

(100) 32°29.54′ N lat., 119°46.00′ W long.;

(101) 32°25.99′ N lat., 119°41.16′ W long.;

(102) 32°30.46′ N lat., 119°33.15′ W long.;

(103) 32°23.47′ N lat., 119°25.71′ W long.;

(104) 32°19.19′ N lat., 119°13.96′ W long.;

(105) 32°13.18′ N lat., 119°04.44′ W long.;

(106) 32°13.40′ N lat., 118°51.87′ W long.;

(107) 32°19.62′ N lat., 118°47.80′ W long.;

(108) 32°27.26′ N lat., 118°50.29′ W long.;

(109) 32°28.42′ N lat., 118°53.15′ W long.;

(110) 32°31.30′ N lat., 118°55.09′ W long.;

(111) 32°33.04′ N lat., 118°53.57′ W long.;

(112) 32°19.07′ N lat., 118°27.54′ W long.;

(113) 32°18.57′ N lat., 118°18.97′ W long.;

(114) 32°09.01′ N lat., 118°13.96′ W long.;

(115) 32°06.57′ N lat., 118°18.78′ W long.;

(116) 32°01.32′ N lat., 118°18.21′ W long.; and

(117) 31°57.89′ N lat., 118°10.51′ W long.

11. Revise § 660.77 to read as follows:

§ 660.77 EFHCAs off the Coast of Washington.

(a) General. Boundary line coordinates for EFHCAs off Washington are provided in this section. Fishing activity that is prohibited or permitted within the EEZ in a particular area designated as a groundfish EFHCAs is detailed at §§ 660.12, 660.112, 660.130, 660.212, 660.230, 660.312, 660.330, and 660.360.

(b) Olympic 2. The boundary of the Olympic 2 EFHCA is defined by straight lines connecting all of the following points in the order stated and connecting back to 48°21.46′ N lat., 124°51.61′ W long.:

(1) 48°21.46′ N lat., 124°51.61′ W long.;

(2) 48°17.00′ N lat., 124°57.18′ W long.;

(3) 48°06.13′ N lat., 125°00.68′ W long.;

(4) 48°06.66′ N lat., 125°06.55′ W long.;

(5) 48°08.44′ N lat., 125°14.61′ W long.;

(6) 48°22.57′ N lat., 125°09.82′ W long.;

(7) 48°21.42′ N lat., 125°03.55′ W long.;

(8) 48°22.99′ N lat., 124°59.29′ W long.; and

(9) 48°23.89′ N lat., 124°54.37′ W long.

(c) Biogenic 1. The boundary of the Biogenic 1 EFHCA is defined by straight lines connecting all of the following points in the order stated and connecting back to 47°29.97′ N lat., 125°20.14′ W long.:

(1) 47°29.97′ N lat., 125°20.14′ W long.;

(2) 47°30.01′ N lat., 125°30.06′ W long.;

(3) 47°40.09′ N lat., 125°50.18′ W long.;

(4) 47°47.27′ N lat., 125°50.06′ W long.;

(5) 47°47.00′ N lat., 125°24.28′ W long.;

(6) 47°39.53′ N lat., 125°10.49′ W long.; and

(7) 47°30.31′ N lat., 125°08.81′ W long.

(d) Biogenic 2. The boundary of the Biogenic 2 EFHCA is defined by straight lines connecting all of the following points in the order stated and connecting back to 47°08.77′ N lat., 125°00.91′ W long.:

(1) 47°08.77′ N lat., 125°00.91′ W long.;

(2) 47°08.82′ N lat., 125°10.01′ W long.;

(3) 47°20.01′ N lat., 125°10.00′ W long.; and

(4) 47°20.00′ N lat., 125°01.25′ W long.

(e) Quinault Canyon. The boundary of the Quinault Canyon EFHCA is defined by straight lines connecting all of the following points in the order stated and connecting back to 47°17.00′ N lat., 125°15.63′ W long.:

(1) 47°17.00′ N lat., 125°15.63′ W long.;

(2) 47°17.00′ N lat., 125°10.00′ W long.; and

(3) 47°08.82′ N lat., 125°10.01′ W long.

(f) Grays Canyon. The Grays Canyon EFHCA consists of two adjacent polygons defined in this paragraph, combined.

(1) Grays Canyon North. The boundary of Grays Canyon North is defined by straight lines connecting all of the following points in the order stated and connecting back to 46°56.79′ N lat., 125°00.00′ W long.:

(i) 46°56.79′ N lat., 125°00.00′ W long.;

(ii) 46°58.30′ N lat., 125°00.21′ W long.;

(iii) 46°58.47′ N lat., 124°59.08′ W long.;

(iv) 47°01.04′ N lat., 124°59.54′ W long.;

(v) 47°03.63′ N lat., 124°56.00′ W long.,

(vi) 47°03.69′ N lat., 124°55.84′ W long.;

(vii) 47°02.69′ N lat., 124°54.35′ W long.;

(viii) 46°58.03′ N lat., 124°54.12′ W long.;

(ix) 46°55.91′ N lat., 124°54.40′ W long.; and

(x) 46°58.01′ N lat., 124°55.09′ W long.

(2) Grays Canyon South-Central. The boundary of Grays Canyon South-Central is defined by straight lines connecting all of the following points in the order stated and connecting back to 46°56.79′ N lat., 125°00.00′ W long.:

(i) 46°56.79′ N lat., 125°00.00′ W long.;

(ii) 46°58.01′ N lat., 124°55.09′ W long.;

(iii) 46°55.91′ N lat., 124°54.40′ W long.;

(iv) 46°55.07′ N lat., 124°54.14′ W long.;

(v) 46°59.60′ N lat., 124°49.79′ W long.;

(vi) 46°58.72′ N lat., 124°48.78′ W long.;

(vii) 46°54.45′ N lat., 124°48.36′ W long.;

(viii) 46°53.99′ N lat., 124°49.95′ W long.;

(ix) 46°54.38′ N lat., 124°52.73′ W long.;

(x) 46°53.30′ N lat., 124°52.35′ W long.;

(xi) 46°53.30′ N lat., 124°49.13′ W long.;

(xii) 46°50.40′ N lat., 124°49.06′ W long.;

(xiii) 46°48.12′ N lat., 124°47.94′ W long.;

(xiv) 46°47.48′ N lat., 124°50.86′ W long.;

(xv) 46°49.81′ N lat., 124°52.79′ W long.; and

(xvi) 46°51.55′ N lat., 125°00.00′ W long.

(g) Biogenic 3. The boundary of the Biogenic 3 EFHCA is defined by straight lines connecting all of the following points in the order stated and connecting back to 46°48.16′ N lat., 125°10.75′ W long.:

(1) 46°48.16′ N lat., 125°10.75′ W long.;

(2) 46°40.00′ N lat., 125°10.00′ W long.;

(3) 46°40.00′ N lat., 125°20.01′ W long.; and

(4) 46°50.00′ N lat., 125°20.00′ W long.

(h) Willapa Canyonhead. The boundary of the Willapa Canyonhead EFHCA is defined by straight lines connecting all of the following points in the order stated and connecting back to 46°33.50′ N lat., 124°28.77′ W long.:

(1) 46°33.50′ N lat., 124°28.77′ W long.;

(2) 46°33.50′ N lat., 124°29.50′ W long.;

(3) 46°33.85′ N lat., 124°36.99′ W long.;

(4) 46°36.50′ N lat., 124°38.00′ W long.;

(5) 46°37.50′ N lat., 124°41.00′ W long.;

(6) 46°37.64′ N lat., 124°41.11′ W long.;

(7) 46°39.43′ N lat., 124°38.69′ W long.; and

(8) 46°34.50′ N lat., 124°28.50′ W long.

(i) Willapa Deep. The boundary of the Willapa Deep EFHCA is defined by straight lines connecting all of the following points in the order stated and connecting back to 46°22.57′ N lat., 124°46.70′ W long.:

(1) 46°22.57′ N lat., 124°46.70′ W long.;

(2) 46°24.38′ N lat., 124°56.31′ W long.;

(3) 46°27.49′ N lat., 124°54.36′ W long.;

(4) 46°36.87′ N lat., 125°09.27′ W long.;

(5) 46°35.59′ N lat., 125°04.58′ W long.;

(6) 46°31.54′ N lat., 124°57.53′ W long.;

(7) 46°28.70′ N lat., 124°51.77′ W long.; and

(8) 46°23.78′ N lat., 124°43.30′ W long.

12. Revise § 660.78 to read as follows:

§ 660.78 EFHCAs off the Coast of Oregon.

(a) General. Boundary line coordinates for EFHCAs off Oregon are provided in this section. Fishing activity that is prohibited or permitted within the EEZ in a particular area designated as a groundfish EFHCA is detailed at §§ 660.12, 660.112, 660.130, 660.212, 660.230, 660.312, 660.330, and 660.360.

(b) Astoria Deep. The boundary of the Astoria Deep EFHCA is defined by straight lines connecting all of the following points in the order stated and connecting back to 46°03.00′ N lat., 124°57.36′ W long.:

(1) 46°03.00′ N lat., 124°57.36′ W long.;

(2) 46°05.37′ N lat., 125°02.88′ W long.;

(3) 46°09.53′ N lat., 125°04.75′ W long.;

(4) 46°14.13′ N lat., 125°02.72′ W long.;

(5) 46°14.79′ N lat., 125°02.31′ W long.;

(6) 46°08.28′ N lat., 125°00.20′ W long.; and

(7) 46°05.74′ N lat., 124°55.32′ W long.

(c) Thompson Seamount. The boundary of the Thompson Seamount EFHCA is defined by straight lines connecting all of the following points in the order stated and connecting back to 46°06.93′ N lat., 128°39.77′ W long.:

(1) 46°06.93′ N lat., 128°39.77′ W long.;

(2) 46°06.76′ N lat., 128°39.60′ W long.;

(3) 46°07.80′ N lat., 128°39.43′ W long.;

(4) 46°08.50′ N lat., 128°34.39′ W long.;

(5) 46°06.76′ N lat., 128°29.36′ W long.;

(6) 46°03.64′ N lat., 128°28.67′ W long.;

(7) 45°59.64′ N lat., 128°31.62′ W long.;

(8) 45°56.87′ N lat., 128°33.18′ W long.;

(9) 45°53.92′ N lat., 128°39.25′ W long.;

(10) 45°54.26′ N lat., 128°43.42′ W long.;

(11) 45°56.87′ N lat., 128°45.85′ W long.;

(12) 46°00.86′ N lat., 128°46.02′ W long.;

(13) 46°03.29′ N lat., 128°44.81′ W long.; and

(14) 46°06.24′ N lat., 128°42.90′ W long.

(d) Astoria Canyon. The boundary of the Astoria Canyon EFHCA is defined by straight lines connecting all of the following points in the order stated and connecting back to 46°06.48′ N lat., 125°05.46′ W long.:

(1) 46°06.48′ N lat., 125°05.46′ W long.;

(2) 46°03.00′ N lat., 124°57.36′ W long.;

(3) 46°02.28′ N lat., 124°57.66′ W long.;

(4) 46°01.92′ N lat., 125°02.46′ W long.;

(5) 45°48.72′ N lat., 124°56.58′ W long.;

(6) 45°47.70′ N lat., 124°52.20′ W long.;

(7) 45°40.86′ N lat., 124°55.62′ W long.;

(8) 45°29.82′ N lat., 124°54.30′ W long.;

(9) 45°25.98′ N lat., 124°56.82′ W long.;

(10) 45°26.04′ N lat., 125°10.50′ W long.;

(11) 45°33.12′ N lat., 125°16.26′ W long.;

(12) 45°40.32′ N lat., 125°17.16′ W long.; and

(13) 46°03.00′ N lat., 125°14.94′ W long.

(e) Nehalem Bank/Shale Pile. The boundary of the Nehalem Bank/Shale Pile EFHCA is defined by straight lines connecting all of the following points in the order stated and connecting back to 45°51.53′ N lat., 124°31.15′ W long.:

(1) 45°51.53′ N lat., 124°31.15′ W long.;

(2) 45°47.95′ N lat., 124°31.70′ W long.;

(3) 45°52.75′ N lat., 124°39.20′ W long.;

(4) 45°58.02′ N lat., 124°38.99′ W long.;

(5) 45°60.83′ N lat., 124°36.78′ W long.;

(6) 45°59.94′ N lat., 124°34.63′ W long.;

(7) 45°58.90′ N lat., 124°33.47′ W long.;

(8) 45°54.27′ N lat., 124°30.73′ W long.;

(9) 45°53.62′ N lat., 124°30.83′ W long.;

(10) 45°52.90′ N lat., 124°30.67′ W long.;

(11) 45°52.03′ N lat., 124°30.60′ W long.; and

(12) 45°51.74′ N lat., 124°30.85′ W long.

(f) Garibaldi Reef North. The boundary of the Garibaldi Reef North EFHCA is defined by straight lines connecting all of the following points in the order stated and connecting back to 45°40.81′ N lat., 124°18.46′ W long.:

(1) 45°40.81′ N lat., 124°18.46′ W long.;

(2) 45°39.70′ N lat., 124°19.46′ W long.;

(3) 45°40.84′ N lat., 124°22.17′ W long.;

(4) 45°44.94′ N lat., 124°23.07′ W long.;

(5) 45°45.17′ N lat., 124°22.19′ W long.; and

(6) 45°43.49′ N lat., 124°18.94′ W long.

(g) Garibaldi Reef South. The boundary of the Garibaldi Reef South EFHCA is defined by straight lines connecting all of the following points in the order stated and connecting back to 45°34.53′ N lat., 124°15.47′ W long.:

(1) 45°34.53′ N lat., 124°15.47′ W long.;

(2) 45°33.46′ N lat., 124°13.59′ W long.;

(3) 45°32.53′ N lat., 124°14.39′ W long.; and

(4) 45°33.58′ N lat., 124°16.54′ W long.

(h) Siletz Deepwater. The boundary of the Siletz Deepwater EFHCA is defined by straight lines connecting all of the following points in the order stated and connecting back to 44°42.72′ N lat., 125°18.49′ W long.:

(1) 44°42.72′ N lat., 125°18.49′ W long.;

(2) 44°56.26′ N lat., 125°12.61′ W long.;

(3) 44°56.34′ N lat., 125°09.13′ W long.;

(4) 44°49.93′ N lat., 125°01.51′ W long.;

(5) 44°46.93′ N lat., 125°02.83′ W long.;

(6) 44°41.96′ N lat., 125°10.64′ W long.;

(7) 44°33.36′ N lat., 125°08.82′ W long.; and

(8) 44°33.38′ N lat., 125°17.08′ W long.

(i) Daisy Bank/Nelson Island. The boundary of the Daisy Bank/Nelson Island EFHCA is defined by straight lines connecting all of the following points in the order stated and connecting back to 44°39.24′ N lat., 124°38.65′ W long.:

(1) 44°39.24′ N lat., 124°38.65′ W long.;

(2) 44°37.17′ N lat., 124°38.60′ W long.;

(3) 44°35.55′ N lat., 124°39.27′ W long.;

(4) 44°37.57′ N lat., 124°41.70′ W long.;

(5) 44°36.90′ N lat., 124°42.91′ W long.;

(6) 44°38.25′ N lat., 124°46.28′ W long.;

(7) 44°38.52′ N lat., 124°49.11′ W long.;

(8) 44°40.27′ N lat., 124°49.11′ W long.;

(9) 44°41.35′ N lat., 124°48.03′ W long.; and

(10) 44°43.92′ N lat., 124°44.66′ W long.

(j) Newport Rockpile/Stonewall Bank. The boundary of the Newport Rockpile/Stonewall Bank EFHCA is defined by straight lines connecting all of the following points in the order stated and connecting back to 44°27.42′ N lat., 124°19.52′ W long.:

(1) 44°27.42′ N lat., 124°19.52′ W long.;

(2) 44°27.42′ N lat., 124°25.31′ W long.;

(3) 44°29.05′ N lat., 124°28.88′ W long.;

(4) 44°35.33′ N lat., 124°28.87′ W long.;

(5) 44°36.94′ N lat., 124°26.78′ W long.;

(6) 44°38.62′ N lat., 124°26.76′ W long.;

(7) 44°39.02′ N lat., 124°25.56′ W long.;

(8) 44°38.41′ N lat., 124°22.73′ W long.;

(9) 44°35.12′ N lat., 124°21.79′ W long.; and

(10) 44°28.82′ N lat., 124°18.80′ W long.

(k) Hydrate Ridge. The boundary of the Hydrate Ridge EFHCA is defined by straight lines connecting all of the following points in the order stated and connecting back to 44°28.31′ N lat., 125°11.42′ W long.:

(1) 44°28.31′ N lat., 125°11.42′ W long.;

(2) 44°33.37′ N lat., 125°11.13′ W long.;

(3) 44°33.36′ N lat., 125°08.82′ W long.;

(4) 44°35.36′ N lat., 125°09.24′ W long.;

(5) 44°35.36′ N lat., 125°07.79′ W long.; and

(6) 44°28.31′ N lat., 125°07.66′ W long.

(l) Heceta Bank. The boundary of the Heceta Bank EFHCA is defined by straight lines connecting all of the following points in the order stated and connecting back to 44°22.27′ N lat., 124°37.63′ W long.:

(1) 44°22.27′ N lat., 124°37.63′ W long.;

(2) 44°20.56′ N lat., 124°36.27′ W long.;

(3) 44°21.06′ N lat., 124°32.69′ W long.;

(4) 44°21.76′ N lat., 124°29.28′ W long.;

(5) 44°21.23′ N lat., 124°28.08′ W long.;

(6) 44°18.68′ N lat., 124°28.13′ W long.;

(7) 44°17.66′ N lat., 124°31.42′ W long.;

(8) 44°14.32′ N lat., 124°31.15′ W long.;

(9) 44°13.02′ N lat., 124°31.53′ W long.;

(10) 44°12.97′ N lat., 124°32.29′ W long.;

(11) 44°13.84′ N lat., 124°32.87′ W long.;

(12) 44°16.64′ N lat., 124°33.44′ W long.;

(13) 44°17.00′ N lat., 124°33.52′ W long.;

(14) 44°15.93′ N lat., 124°35.93′ W long.;

(15) 44°14.38′ N lat., 124°37.37′ W long.;

(16) 44°13.52′ N lat., 124°40.45′ W long.;

(17) 44°09.00′ N lat., 124°45.30′ W long.;

(18) 44°03.46′ N lat., 124°45.71′ W long.;

(19) 43°58.55′ N lat., 124°45.79′ W long.;

(20) 43°57.37′ N lat., 124°50.89′ W long.;

(21) 43°56.66′ N lat., 124°54.47′ W long.;

(22) 43°57.24′ N lat., 124°55.54′ W long.;

(23) 43°57.68′ N lat., 124°55.48′ W long.;

(24) 44°00.14′ N lat., 124°55.25′ W long.;

(25) 44°02.88′ N lat., 124°53.96′ W long.;

(26) 44°13.47′ N lat., 124°54.08′ W long.;

(27) 44°19.27′ N lat., 124°41.03′ W long.;

(28) 44°24.16′ N lat., 124°40.62′ W long.; and

(29) 44°24.10′ N lat., 124°38.10′ W long.

(m) Deepwater off Coos Bay. The boundary of the Deepwater off Coos Bay EFHCA is defined by straight lines connecting all of the following points in the order stated and connecting back to 43°29.32′ N lat., 125°20.11′ W long.:

(1) 43°29.32′ N lat., 125°20.11′ W long.;

(2) 43°38.96′ N lat., 125°18.75′ W long.;

(3) 43°37.88′ N lat., 125°08.26′ W long.;

(4) 43°36.58′ N lat., 125°06.56′ W long.;

(5) 43°33.04′ N lat., 125°08.41′ W long.;

(6) 43°27.74′ N lat., 125°07.25′ W long.;

(7) 43°15.95′ N lat., 125°07.84′ W long.;

(8) 43°15.38′ N lat., 125°10.47′ W long.; and

(9) 43°25.73′ N lat., 125°19.36′ W long.

(n) Arago Reef. The boundary of the Arago Reef EFHCA is defined as the areas within the West Coast EEZ shoreward (east) of a boundary line defined by connecting the following coordinates in the order stated:

(1) 43°08.49′ N lat., 124°30.78′ W long.;

(2) 43°08.55′ N lat., 124°30.79′ W long.;

(3) 43°10.22′ N lat., 124°37.82′ W long.;

(4) 43°16.91′ N lat., 124°37.50′ W long.;

(5) 43°16.51′ N lat., 124°28.97′ W long.; and

(6) 43°16.88′ N lat., 124°28.16′ W long.

(o) Bandon High Spot. The boundary of the Bandon High Spot EFHCA is defined by straight lines connecting all of the following points in the order stated and connecting back to 42°57.18′ N lat., 124°46.01′ W long.:

(1) 42°57.18′ N lat., 124°46.01′ W long.;

(2) 42°56.10′ N lat., 124°47.48′ W long.;

(3) 42°56.66′ N lat., 124°48.79′ W long.;

(4) 42°53.67′ N lat., 124°51.81′ W long.;

(5) 42°54.00′ N lat., 124°53.03′ W long.;

(6) 42°55.11′ N lat., 124°53.71′ W long.;

(7) 42°58.00′ N lat., 124°52.99′ W long.;

(8) 43°00.39′ N lat., 124°51.77′ W long.;

(9) 43°02.64′ N lat., 124°52.01′ W long.;

(10) 43°06.07′ N lat., 124°50.97′ W long.;

(11) 43°06.07′ N lat., 124°50.23′ W long.;

(12) 43°04.47′ N lat., 124°48.50′ W long.;

(13) 43°03.20′ N lat., 124°47.52′ W long.; and

(14) 43°00.94′ N lat., 124°46.57′ W long.

(p) President Jackson Seamount. The boundary of the President Jackson Seamount EFHCA is defined by straight lines connecting all of the following points in the order stated and connecting back to 42°21.41′ N lat., 127°42.91′ W long.:

(1) 42°21.41′ N lat., 127°42.91′ W long.;

(2) 42°21.96′ N lat., 127°43.73′ W long.;

(3) 42°23.78′ N lat., 127°46.09′ W long.;

(4) 42°26.05′ N lat., 127°48.64′ W long.;

(5) 42°28.60′ N lat., 127°52.10′ W long.;

(6) 42°31.06′ N lat., 127°55.02′ W long.;

(7) 42°34.61′ N lat., 127°58.84′ W long.;

(8) 42°37.34′ N lat., 128°01.48′ W long.;

(9) 42°39.62′ N lat., 128°05.12′ W long.;

(10) 42°41.81′ N lat., 128°08.13′ W long.;

(11) 42°43.44′ N lat., 128°10.04′ W long.;

(12) 42°44.99′ N lat., 128°12.04′ W long.;

(13) 42°48.27′ N lat., 128°15.05′ W long.;

(14) 42°51.28′ N lat., 128°15.05′ W long.;

(15) 42°53.64′ N lat., 128°12.23′ W long.;

(16) 42°52.64′ N lat., 128°08.49′ W long.;

(17) 42°51.64′ N lat., 128°06.94′ W long.;

(18) 42°50.27′ N lat., 128°05.76′ W long.;

(19) 42°48.18′ N lat., 128°03.76′ W long.;

(20) 42°45.45′ N lat., 128°01.94′ W long.;

(21) 42°42.17′ N lat., 127°57.57′ W long.;

(22) 42°41.17′ N lat., 127°53.92′ W long.;

(23) 42°38.80′ N lat., 127°49.92′ W long.;

(24) 42°36.43′ N lat., 127°44.82′ W long.;

(25) 42°33.52′ N lat., 127°41.36′ W long.;

(26) 42°31.24′ N lat., 127°39.63′ W long.;

(27) 42°28.33′ N lat., 127°36.53′ W long.;

(28) 42°23.96′ N lat., 127°35.89′ W long.;

(29) 42°21.96′ N lat., 127°37.72′ W long.; and

(30) 42°21.05′ N lat., 127°40.81′ W long.

(q) Rogue Canyon. The boundary of the Rogue Canyon EFHCA is defined by straight lines connecting all of the following points in the order stated and connecting back to 42°41.33′ N lat., 125°16.61′ W long.:

(1) 42°41.33′ N lat., 125°16.61′ W long.;

(2) 42°41.55′ N lat., 125°03.05′ W long.;

(3) 42°35.29′ N lat., 125°02.21′ W long.;

(4) 42°34.11′ N lat., 124°55.62′ W long.;

(5) 42°30.61′ N lat., 124°54.97′ W long.;

(6) 42°23.81′ N lat., 124°52.85′ W long.; and

(7) 42°17.94′ N lat., 125°10.17′ W long.

(r) Rogue River Reef. The boundary of the Rogue River Reef EFHCA is defined as the areas within the West Coast EEZ shoreward (east) of a boundary line defined by connecting the following coordinates in the order stated:

(1) 42°23.27′ N lat., 124°30.03′ W long.;

(2) 42°24.10′ N lat., 124°32.41′ W long.;

(3) 42°22.28′ N lat., 124°39.92′ W long.;

(4) 42°25.46′ N lat., 124°43.91′ W long.;

(5) 42°27.87′ N lat., 124°44.63′ W long.;

(6) 42°29.27′ N lat., 124°44.22′ W long.;

(7) 42°29.71′ N lat., 124°39.83′ W long.;

(8) 42°29.36′ N lat., 124°36.53′ W long.; and

(9) 42°28.16′ N lat., 124°34.05′ W long.

14. Revise § 660.79 to read as follows:

§ 660.79 EFHCAs off the Coast of California.

(a) General. Boundary line coordinates for EFHCA off California are provided in this section. Fishing activity that is prohibited or permitted within the EEZ in a particular area designated as a groundfish EFHCA is detailed at §§ 660.12, 660.112, 660.130, 660.212, 660.230, 660.312, 660.330, and 660.360.

(b) Brush Patch. The boundary of the Brush Patch EFHCA is defined by straight lines connecting all of the following points in the order stated and connecting back to 41°51.03′ N lat., 124°48.65′ W long.:

(1) 41°51.03′ N lat., 124°48.65′ W long.;

(2) 41°51.98′ N lat., 124°51.00′ W long.;

(3) 41°53.63′ N lat., 124°53.12′ W long.;

(4) 41°55.22′ N lat., 124°54.50′ W long.;

(5) 41°57.16′ N lat., 124°54.87′ W long.;

(6) 41°59.16′ N lat., 124°52.89′ W long.;

(7) 41°58.93′ N lat., 124°51.25′ W long.;

(8) 41°57.98′ N lat., 124°50.42′ W long.;

(9) 41°54.50′ N lat., 124°49.72′ W long.;

(10) 41°52.66′ N lat., 124°47.85′ W long.; and

(11) 41°51.24′ N lat., 124°47.23′ W long.

(c) Trinidad Canyon. The boundary of the Trinidad Canyon EFHCA is defined by straight lines connecting all of the following points in the order stated and connecting back to 41°07.81′ N lat., 124°51.29′ W long.:

(1) 41°07.81′ N lat., 124°51.29′ W long.;

(2) 41°14.52′ N lat., 124°52.67′ W long.;

(3) 41°17.66′ N lat., 124°54.31′ W long.;

(4) 41°18.37′ N lat., 124°45.50′ W long.;

(5) 41°17.60′ N lat., 124°43.42′ W long.; and

(6) 41°09.44′ N lat., 124°43.11′ W long.

(d) Mad River Rough Patch. The boundary of the Mad River Rough Patch EFHCA is defined by straight lines connecting all of the following points in the order stated and connecting back to 40°53.66′ N lat., 124°26.68′ W long.:

(1) 40°53.66′ N lat., 124°26.68′ W long.;

(2) 40°54.49′ N lat., 124°28.22′ W long.;

(3) 40°54.88′ N lat., 124°28.54′ W long.;

(4) 40°57.27′ N lat., 124°29.10′ W long.;

(5) 40°57.37′ N lat., 124°28.96′ W long.;

(6) 40°57.27′ N lat., 124°28.34′ W long.;

(7) 40°54.56′ N lat., 124°26.25′ W long.; and

(8) 40°54.13′ N lat., 124°26.27′ W long.

(e) Samoa Deepwater. The boundary of the Samoa Deepwater EFHCA is defined by straight lines connecting all of the following points in the order stated and connecting back to 40°50.11′ N lat., 124°35.29′ W long.:

(1) 40°50.11′ N lat., 124°35.29′ W long.;

(2) 40°46.37′ N lat., 124°34.69′ W long.;

(3) 40°48.50′ N lat., 124°39.04′ W long.;

(4) 40°51.96′ N lat., 124°41.23′ W long.; and

(5) 40°52.04′ N lat., 124°38.08′ W long.

(f) Eel River Canyon. The boundary of the Eel River Canyon EFHCA is defined by straight lines connecting all of the following points in the order stated and connecting back to 40°40.33′ N lat., 124°41.82′ W long.:

(1) 40°40.33′ N lat., 124°41.82′ W long.;

(2) 40°39.69′ N lat., 124°33.36′ W long.;

(3) 40°40.13′ N lat., 124°32.61′ W long.;

(4) 40°39.84′ N lat., 124°31.21′ W long.;

(5) 40°39.36′ N lat., 124°30.48′ W long.;

(6) 40°39.42′ N lat., 124°29.40′ W long.;

(7) 40°38.91′ N lat., 124°28.42′ W long.;

(8) 40°38.57′ N lat., 124°28.49′ W long.;

(9) 40°37.56′ N lat., 124°28.78′ W long.;

(10) 40°37.08′ N lat., 124°28.42′ W long.;

(11) 40°35.79′ N lat., 124°29.21′ W long.;

(12) 40°37.52′ N lat., 124°33.41′ W long.;

(13) 40°37.51′ N lat., 124°34.46′ W long.;

(14) 40°38.22′ N lat., 124°35.72′ W long.;

(15) 40°38.27′ N lat., 124°39.11′ W long.;

(16) 40°37.47′ N lat., 124°40.46′ W long.;

(17) 40°35.47′ N lat., 124°42.97′ W long.;

(18) 40°32.78′ N lat., 124°44.79′ W long.;

(19) 40°24.32′ N lat., 124°39.97′ W long.;

(20) 40°23.26′ N lat., 124°42.45′ W long.;

(21) 40°27.34′ N lat., 124°51.21′ W long.;

(22) 40°32.68′ N lat., 124°65.63′ W long.;

(23) 40°49.12′ N lat., 124°47.41′ W long.;

(24) 40°44.32′ N lat., 124°46.48′ W long.; and

(25) 40°41.67′ N lat., 124°42.92′ W long.

(g) Blunts Reef. The Blunts Reef EFHCA consists of the two adjacent polygons defined in this paragraph, combined.

(1) Blunts Reef North. The boundary of Blunts Reef North is defined by straight lines connecting all of the following points in the order stated and connecting back to 40°30.21′ N lat., 124°26.85′ W long.:

(i) 40°30.21′ N lat., 124°26.85′ W long.;

(ii) 40°27.53′ N lat., 124°26.84′ W long.;

(iii) 40°24.66′ N lat., 124°29.49′ W long.;

(iv) 40°27.84′ N lat., 124°31.92′ W long.;

(v) 40°28.31′ N lat., 124°33.49′ W long.;

(vi) 40°29.99′ N lat., 124°33.49′ W long.; and

(vii) 40°30.46′ N lat., 124°32.23′ W long.

(2) Blunts Reef South. The boundary of Blunts Reef South is defined as the areas within the West Coast EEZ shoreward (east) of a boundary line defined by straight lines connecting the following coordinates in the order stated:

(i) 40°27.84′ N lat., 124°31.92′ W long.;

(ii) 40°28.31′ N lat., 124°33.49′ W long.;

(iii) 40°22.49′ N lat., 124°30.92′ W long.; and

(iv) 40°23.67′ N lat., 124°28.43′ W long.

(h) Mendocino Ridge. The Mendocino Ridge EFHCA consists of the two adjacent polygons defined in this paragraph, combined.

(1) Mendocino Ridge North. The boundary of Mendocino Ridge North is defined by straight lines connecting all of the following points in the order stated and connecting back to 40°25.23′ N lat., 124°24.06′ W long.:

(i) 40°25.23′ N lat., 124°24.06′ W long.;

(ii) 40°12.50′ N lat., 124°22.59′ W long.;

(iii) 40°13.84′ N lat., 124°31.89′ W long.;

(iv) 40°14.96′ N lat., 124°35.42′ W long.;

(v) 40°15.92′ N lat., 124°36.38′ W long.;

(vi) 40°15.81′ N lat., 124°38.37′ W long.;

(vii) 40°17.45′ N lat., 124°45.42′ W long.;

(viii) 40°18.39′ N lat., 124°48.55′ W long.;

(ix) 40°19.98′ N lat., 124°52.73′ W long.;

(x) 40°20.06′ N lat., 125°02.18′ W long.;

(xi) 40°11.79′ N lat., 125°07.39′ W long.;

(xii) 40°12.55′ N lat., 125°11.56′ W long.;

(xiii) 40°12.81′ N lat., 125°12.98′ W long.;

(xiv) 40°20.72′ N lat., 125°57.31′ W long.;

(xv) 40°23.96′ N lat., 125°56.83′ W long.;

(xvi) 40°24.04′ N lat., 125°56.82′ W long.;

(xvii) 40°25.68′ N lat., 125°09.77′ W long.;

(xviii) 40°21.03′ N lat., 124°33.96′ W long.; and

(xix) 40°25.72′ N lat., 124°24.15′ W long.

(2) Mendocino Ridge South. The boundary of Mendocino Ridge South is defined as the areas within the West Coast EEZ shoreward (east) of a boundary line defined by connecting the following coordinates in the order stated:

(i) 40°10.03′ N lat., 124°20.51′ W long.;

(ii) 40°10.42′ N lat., 124°22.26′ W long.;

(iii) 40°13.84′ N lat., 124°31.89′ W long.; and

(iv) 40°12.82′ N lat., 124°24.85′ W long.

(i) Delgada Canyon. The boundary of the Delgada Canyon EFHCA is defined as the areas of the state territorial sea, east of the West Coast EEZ and within a boundary line defined by connecting the following coordinates in the order stated:

(1) 40°06.58′ N lat., 124°07.39′ W long.;

(2) 40°01.37′ N lat., 124°08.79′ W long.;

(3) 40°04.35′ N lat., 124°10.89′ W long.;

(4) 40°05.71′ N lat., 124°09.42′ W long.;

(5) 40°07.18′ N lat., 124°09.61′ W long.; and

(6) 40°07.13′ N lat., 124°09.09′ W long.

(j) Tolo Bank. The boundary of the Tolo Bank EFHCA is defined by straight lines connecting all of the following points in the order stated and connecting back to 39°58.75′ N lat., 124°04.58′ W long.:

(1) 39°58.75′ N lat., 124°04.58′ W long.;

(2) 39°56.05′ N lat., 124°01.45′ W long.;

(3) 39°53.99′ N lat., 124°00.17′ W long.;

(4) 39°52.28′ N lat., 124°03.12′ W long.; and

(5) 39°57.90′ N lat., 124°07.07′ W long.

(k) Navarro Canyon. The boundary of the Navarro Canyon EFHCA is defined by straight lines connecting all of the following points in the order stated and connecting back to 39°04.76′ N lat., 124°11.80′ W long.:

(1) 39°04.76′ N lat., 124°11.80′ W long.;

(2) 39°11.84′ N lat., 124°13.30′ W long.;

(3) 39°11.39′ N lat., 124°10.38′ W long.;

(4) 39°08.73′ N lat., 124°10.38′ W long.;

(5) 39°07.16′ N lat., 124°08.98′ W long.; and

(6) 39°06.07′ N lat., 124°08.55′ W long.

(l) Point Arena North. The boundary of the Point Arena North EFHCA is defined by straight lines connecting all of the following points in the order stated and connecting back to 39°03.32′ N lat., 123°51.15′ W long.:

(1) 39°03.32′ N lat., 123°51.15′ W long.;

(2) 38°56.54′ N lat., 123°49.79′ W long.;

(3) 38°54.12′ N lat., 123°52.69′ W long.;

(4) 38°59.64′ N lat., 123°55.02′ W long.; and

(5) 39°02.83′ N lat., 123°55.21′ W long.

(m) Point Arena South Biogenic Area. The boundary of the Point Arena South Biogenic Area EFHCA is defined by straight lines connecting all of the following points in the order stated and connecting back to 38°33.24′ N lat., 123°35.18′ W long.:

(1) 38°33.24′ N lat., 123°35.18′ W long.;

(2) 38°32.01′ N lat., 123°35.78′ W long.;

(3) 38°33.19′ N lat., 123°40.30′ W long.;

(4) 38°34.62′ N lat., 123°42.32′ W long.;

(5) 38°35.98′ N lat., 123°44.22′ W long.;

(6) 38°38.27′ N lat., 123°46.57′ W long.;

(7) 38°41.11′ N lat., 123°48.69′ W long.;

(8) 38°41.95′ N lat., 123°45.41′ W long.;

(9) 38°36.02′ N lat., 123°41.30′ W long.; and

(10) 38°34.37′ N lat., 123°37.47′ W long.

(n) The Football. The boundary of The Football EFHCA is defined by straight lines connecting all of the following points in the order stated and connecting back to 38°24.36′ N lat., 123°32.10′ W long.:

(1) 38°24.36′ N lat., 123°32.10′ W long.;

(2) 38°23.58′ N lat., 123°33.96′ W long.;

(3) 38°29.10′ N lat., 123°37.32′ W long.; and

(4) 38°29.04′ N lat., 123°35.04′ W long.

(o) Gobbler's Knob. The boundary of the Gobbler's Knob EFHCA is defined by straight lines connecting all of the following points in the order stated and connecting back to 38°06.84′ N lat., 123°25.98′ W long.:

(1) 38°06.84′ N lat., 123°25.98′ W long.;

(2) 38°07.14′ N lat., 123°27.60′ W long.;

(3) 38°11.64′ N lat., 123°29.58′ W long.;

(4) 38°12.36′ N lat., 123°28.80′ W long.;

(5) 38°12.42′ N lat., 123°27.78′ W long.; and

(6) 38°08.70′ N lat., 123°25.98′ W long.

(p) Point Reyes Reef. The boundary of the Point Reyes Reef EFHCA is defined as the areas within the West Coast EEZ shoreward (east) of a boundary line defined by connecting the following coordinates in the order stated:

(1) 38°2.88′ N lat., 123°03.46′ W long.;

(2) 38°2.98′ N lat., 123°03.84′ W long.;

(3) 38°6.52′ N lat., 123°03.63′ W long.;

(4) 38°8.69′ N lat., 123°01.86′ W long.; and

(5) 38°8.92′ N lat., 123°00.90′ W long.

(q) Cordell Bank/Biogenic Area. The boundary of the Cordell Bank/Biogenic Area EFHCA is located offshore of California's Marin County defined by straight lines connecting all of the following points in the order stated and connecting back to 38°05.46′ N lat., 123°25.97′ W long.:

(1) 38°05.46′ N lat., 123°25.97′ W long.;

(2) 38°04.44′ N lat., 123°24.44′ W long.;

(3) 38°03.05′ N lat., 123°21.33′ W long.;

(4) 38°03.07′ N lat., 123°07.35′ W long.;

(5) 38°02.84′ N lat., 123°07.36′ W long.;

(6) 38°01.09′ N lat., 123°07.06′ W long.;

(7) 38°01.02′ N lat., 123°22.08′ W long.;

(8) 37°54.75′ N lat., 123°23.64′ W long.;

(9) 37°46.01′ N lat., 123°25.62′ W long.;

(10) 37°46.68′ N lat., 123°27.05′ W long.;

(11) 37°47.66′ N lat., 123°28.18′ W long.;

(12) 37°50.26′ N lat., 123°30.94′ W long.;

(13) 37°54.41′ N lat., 123°32.69′ W long.;

(14) 37°56.94′ N lat., 123°32.87′ W long.;

(15) 37°57.09′ N lat., 123°26.39′ W long.;

(16) 37°57.76′ N lat., 123°26.48′ W long.;

(17) 37°58.57′ N lat., 123°26.95′ W long.;

(18) 37°59.94′ N lat., 123°28.58′ W long.;

(19) 38°00.27′ N lat., 123°29.32′ W long.;

(20) 38°00.63′ N lat., 123°29.95′ W long.;

(21) 38°01.23′ N lat., 123°30.53′ W long.;

(22) 38°01.60′ N lat., 123°30.81′ W long.;

(23) 38°01.84′ N lat., 123°31.05′ W long.;

(24) 38°02.00′ N lat., 123°31.31′ W long.;

(25) 38°02.37′ N lat., 123°31.45′ W long.;

(26) 38°03.99′ N lat., 123°30.75′ W long.;

(27) 38°04.85′ N lat., 123°30.36′ W long.; and

(28) 38°05.73′ N lat., 123°28.46′ W long.

(r) Cordell Bank (50-fm (91-m) isobath). The boundary of the Cordell Bank (50-fm (91-m) isobath) EFHCA is located offshore of California's Marin County defined by straight lines connecting all of the following points in the order stated and connecting back to 37°57.62′ N lat., 123°24.22′ W long.:

(1) 37°57.62′ N lat., 123°24.22′ W long.;

(2) 37°57.70′ N lat., 123°25.25′ W long.;

(3) 37°59.47′ N lat., 123°26.63′ W long.;

(4) 38°00.24′ N lat., 123°27.87′ W long.;

(5) 38°00.98′ N lat., 123°27.65′ W long.;

(6) 38°02.81′ N lat., 123°28.75′ W long.;

(7) 38°04.26′ N lat., 123°29.25′ W long.;

(8) 38°04.55′ N lat., 123°28.32′ W long.;

(9) 38°03.87′ N lat., 123°27.69′ W long.;

(10) 38°04.27′ N lat., 123°26.68′ W long.;

(11) 38°02.67′ N lat., 123°24.17′ W long.;

(12) 38°00.87′ N lat., 123°23.15′ W long.;

(13) 37°59.32′ N lat., 123°22.52′ W long.; and

(14) 37°58.24′ N lat., 123°23.16′ W long.

(s) Rittenburg Bank. The boundary of the Rittenburg Bank EFHCA is defined by straight lines connecting all of the following points in the order stated and connecting back to 37°51.36′ N lat., 123°19.18′ W long.:

(1) 37°51.36′ N lat., 123°19.18′ W long.;

(2) 37°53.61′ N lat., 123°21.67′ W long.;

(3) 37°54.32′ N lat., 123°19.69′ W long.;

(4) 37°53.98′ N lat., 123°18.99′ W long.;

(5) 37°54.96′ N lat., 123°16.32′ W long.; and

(6) 37°53.32′ N lat., 123°15.00′ W long.

(t) Farallon Islands/Fanny Shoal/Cochrane Bank. The boundary of the Farallon Islands/Fanny Shoal/Cochrane Bank EFHCA is defined by straight lines connecting all of the following points in the order stated and connecting back to 37°51.58′ N lat., 123°14.07′ W long.:

(1) 37°51.58′ N lat., 123°14.07′ W long.;

(2) 37°44.51′ N lat., 123°01.50′ W long.;

(3) 37°41.71′ N lat., 122°58.38′ W long.;

(4) 37°40.80′ N lat., 122°58.54′ W long.;

(5) 37°39.87′ N lat., 122°59.64′ W long.;

(6) 37°42.05′ N lat., 123°03.72′ W long.;

(7) 37°43.73′ N lat., 123°04.45′ W long.;

(8) 37°46.94′ N lat., 123°11.65′ W long.;

(9) 37°46.51′ N lat., 123°14.14′ W long.;

(10) 37°47.87′ N lat., 123°16.94′ W long.; and

(11) 37°49.23′ N lat., 123°16.81′ W long.

(u) Farallon Escarpment. The boundary of the Farallon Escarpment EFHCA is defined by straight lines connecting all of the following points in the order stated and connecting back to 37°44.85′ N lat., 123°13.73′ W long.:

(1) 37°44.85′ N lat., 123°13.73′ W long.;

(2) 37°45.58′ N lat., 123°12.74′ W long.;

(3) 37°45.18′ N lat., 123°11.87′ W long.;

(4) 37°42.71′ N lat., 123°09.04′ W long.;

(5) 37°40.73′ N lat., 123°08.42′ W long.;

(6) 37°39.15′ N lat., 123°06.76′ W long.;

(7) 37°38.26′ N lat., 123°08.27′ W long.;

(8) 37°34.32′ N lat., 123°07.43′ W long.;

(9) 37°29.55′ N lat., 123°09.74′ W long.;

(10) 37°29.18′ N lat., 123°13.97′ W long.;

(11) 37°40.29′ N lat., 123°12.83′ W long.;

(12) 37°47.52′ N lat., 123°25.28′ W long.; and

(13) 37°50.65′ N lat., 123°24.57′ W long.

(v) Half Moon Bay. The boundary of the Half Moon Bay EFHCA is defined by straight lines connecting all of the following points in the order stated and connecting back to 37°18.14′ N lat., 122°31.15′ W long.:

(1) 37°18.14′ N lat., 122°31.15′ W long.;

(2) 37°19.80′ N lat., 122°34.70′ W long.;

(3) 37°19.28′ N lat., 122°38.76′ W long.;

(4) 37°23.54′ N lat., 122°40.75′ W long.;

(5) 37°25.41′ N lat., 122°33.20′ W long.; and

(6) 37°23.28′ N lat., 122°30.71′ W long.

(w) Pescadero Reef. The boundary of the Pescadero Reef EFHCA is defined as the areas within the West Coast EEZ shoreward (east) of a boundary line defined by connecting the following coordinates in the order stated:

(1) 37°17.18′ N lat., 122°28.34′ W long.;

(2) 37°17.76′ N lat., 122°29.59′ W long.;

(3) 37°19.38′ N lat., 122°29.63′ W long.; and

(4) 37°19.50′ N lat., 122°28.00′ W long.;

(x) Pigeon Point Reef. The boundary of the Pigeon Point EFHCA is defined by straight lines connecting all of the following points in the order stated and connecting back to 37°06.02′ N lat., 122°28.14′ W long.:

(1) 37°06.02′ N lat., 122°28.14′ W long.;

(2) 37°08.91′ N lat., 122°31.76′ W long.;

(3) 37°10.29′ N lat., 122°29.70′ W long.; and

(4) 37°07.20′ N lat., 122°26.82′ W long.

(y) Ascension Canyonhead. The boundary of the Ascension Canyonhead EFHCA is defined by straight lines connecting all of the following points in the order stated and connecting back to 36°56.88′ N lat., 122°24.84′ W long.:

(1) 36°56.88′ N lat., 122°24.84′ W long.;

(2) 36°57.30′ N lat., 122°26.36′ W long.;

(3) 36°56.65′ N lat., 122°27.06′ W long.;

(4) 37°01.55′ N lat., 122°24.73′ W long.;

(5) 37°01.40′ N lat., 122°24.37′ W long.;

(6) 37°01.00′ N lat., 122°24.35′ W long.;

(7) 37°00.61′ N lat., 122°24.03′ W long.; and

(8) 36°59.20′ N lat., 122°24.64′ W long.

(z) South of Davenport. The boundary of the South of Davenport EFHCA is defined by straight lines connecting all of the following points in the order stated and connecting back to 36°54.00′ N lat., 122°13.05′ W long.:

(1) 36°54.00′ N lat., 122°13.05′ W long.;

(2) 36°56.79′ N lat., 122°17.91′ W long.;

(3) 36°57.80′ N lat., 122°18.14′ W long.;

(4) 36°57.84′ N lat., 122°17.72′ W long.;

(5) 36°57.38′ N lat., 122°17.05′ W long.;

(6) 36°55.84′ N lat., 122°14.26′ W long.;

(7) 36°54.80′ N lat., 122°12.61′ W long.; and

(8) 36°54.49′ N lat., 122°12.48′ W long.

(aa) Monterey Bay/Canyon. The boundary of the Monterey Bay/Canyon EFHCA is defined by straight lines connecting all of the following points in the order stated and connecting back to 36°54.17′ N lat., 122°23.68′ W long.:

(1) 36°54.17′ N lat., 122°23.68′ W long.;

(2) 36°53.58′ N lat., 122°22.48′ W long.;

(3) 36°52.72′ N lat., 122°22.11′ W long.;

(4) 36°49.09′ N lat., 122°21.84′ W long.;

(5) 36°50.47′ N lat., 122°19.03′ W long.;

(6) 36°49.60′ N lat., 122°15.08′ W long.;

(7) 36°49.37′ N lat., 122°15.20′ W long.;

(8) 36°48.31′ N lat., 122°18.59′ W long.;

(9) 36°45.55′ N lat., 122°18.91′ W long.;

(10) 36°44.32′ N lat., 122°18.49′ W long.;

(11) 36°42.04′ N lat., 122°16.07′ W long.;

(12) 36°40.30′ N lat., 122°13.31′ W long.;

(13) 36°39.88′ N lat., 122°09.69′ W long.;

(14) 36°40.02′ N lat., 122°09.09′ W long.;

(15) 36°40.99′ N lat., 122°08.53′ W long.;

(16) 36°41.30′ N lat., 122°09.35′ W long.;

(17) 36°44.94′ N lat., 122°08.46′ W long.;

(18) 36°46.31′ N lat., 122°05.48′ W long.;

(19) 36°48.50′ N lat., 122°06.02′ W long.;

(20) 36°49.18′ N lat., 122°03.12′ W long.;

(21) 36°47.80′ N lat., 122°02.71′ W long.;

(22) 36°49.60′ N lat., 122°00.85′ W long.;

(23) 36°51.53′ N lat., 121°58.25′ W long.;

(24) 36°50.78′ N lat., 121°56.89′ W long.;

(25) 36°47.39′ N lat., 121°58.16′ W long.;

(26) 36°48.34′ N lat., 121°50.95′ W long.;

(27) 36°47.23′ N lat., 121°52.25′ W long.;

(28) 36°45.60′ N lat., 121°54.17′ W long.;

(29) 36°44.76′ N lat., 121°56.04′ W long.;

(30) 36°41.68′ N lat., 121°56.33′ W long.;

(31) 36°38.21′ N lat., 121°55.96′ W long.; extending along the mainland coast to

(32) 36°25.31′ N lat., 121°54.86′ W long.;

(33) 36°25.25′ N lat., 121°58.34′ W long.;

(34) 36°30.86′ N lat., 122°00.45′ W long.;

(35) 36°30.78′ N lat., 122°01.32′ W long.;

(36) 36°31.22′ N lat., 122°01.35′ W long.;

(37) 36°32.38′ N lat., 122°01.69′ W long.;

(38) 36°35.41′ N lat., 122°04.44′ W long.;

(39) 36°34.69′ N lat., 122°04.99′ W long.;

(40) 36°30.59′ N lat., 122°03.45′ W long.;

(41) 36°30.02′ N lat., 122°09.85′ W long.;

(42) 36°30.23′ N lat., 122°36.82′ W long.;

(43) 36°55.08′ N lat., 122°36.46′ W long.;

(44) 36°54.01′ N lat., 122°29.95′ W long.;

(45) 36°56.65′ N lat., 122°27.06′ W long.;

(46) 36°57.30′ N lat., 122°26.36′ W long.;

(47) 36°56.88′ N lat., 122°24.84′ W long.; and

(48) 36°56.53′ N lat., 122°23.58′ W long.

(bb) West of Sobranes Point. The boundary of the West of Sobranes Point EFHCA is defined by straight lines connecting all of the following points in the order stated and connecting back to 36°30.59′ N lat., 122°03.45′ W long.:

(1) 36°30.59′ N lat., 122°03.45′ W long.;

(2) 36°25.41′ N lat., 122°13.54′ W long.;

(3) 36°25.71′ N lat., 122°17.22′ W long.; and

(4) 36°30.02′ N lat., 122°09.85′ W long.

(cc) Point Sur Deep. The boundary of the Point Sur Deep EFHCA is defined by straight lines connecting all of the following points in the order stated and connecting back to 36°17.95′ N lat., 122°17.13′ W long.:

(1) 36°17.95′ N lat., 122°17.13′ W long.;

(2) 36°17.83′ N lat., 122°22.56′ W long.;

(3) 36°22.33′ N lat., 122°22.99′ W long.;

(4) 36°26.00′ N lat., 122°20.81′ W long.; and

(5) 36°25.41′ N lat., 122°13.54′ W long.

(dd) Big Sur Coast/Port San Luis. The Big Sur Coast/Port San Luis EFHCA consists of the three adjacent polygons defined in this paragraph, combined.

(1) Main. The main polygon covers Davidson Seamount, portions of Santa Lucia Bank and Sur Canyon, and is defined by straight lines connecting all of the following points in the order stated and connecting back to 36°15.74′ N lat., 121°56.75′ W long.:

(i) 36°15.74′ N lat., 121°56.75′ W long.;

(ii) 36°15.84′ N lat., 121°56.35′ W long.;

(iii) 36°14.27′ N lat., 121°53.89′ W long.;

(iv) 36°10.93′ N lat., 121°48.66′ W long.;

(v) 36°07.40′ N lat., 121°43.14′ W long.;

(vi) 36°07.36′ N lat., 121°43.26′ W long.;

(vii) 35°59.00′ N lat., 121°50.49′ W long.;

(viii) 35°55.70′ N lat., 121°50.02′ W long.;

(ix) 35°53.05′ N lat., 121°56.69′ W long.;

(x) 35°38.99′ N lat., 121°49.73′ W long.;

(xi) 35°20.06′ N lat., 121°27.00′ W long.;

(xii) 35°20.39′ N lat., 121°33.08′ W long.;

(xiii) 35°09.72′ N lat., 121°33.92′ W long.;

(xiv) 35°06.21′ N lat., 121°33.51′ W long.;

(xv) 35°04.09′ N lat., 121°32.19′ W long.;

(xvi) 35°02.65′ N lat., 121°30.63′ W long.;

(xvii) 35°02.79′ N lat., 121°26.30′ W long.;

(xviii) 34°58.71′ N lat., 121°24.21′ W long.;

(xix) 34°47.24′ N lat., 121°22.40′ W long.;

(xx) 34°35.70′ N lat., 121°45.99′ W long.;

(xxi) 35°47.36′ N lat., 122°30.25′ W long.;

(xxii) 35°27.26′ N lat., 122°45.15′ W long.;

(xxiii) 35°34.39′ N lat., 123°00.25′ W long.;

(xxiv) 36°01.64′ N lat., 122°40.76′ W long.;

(xxv) 36°17.41′ N lat., 122°41.22′ W long.;

(xxvi) 36°17.83′ N lat., 122°22.56′ W long.;

(xxvii) 36°17.95′ N lat., 122°17.13′ W long.;

(xxviii) 36°13.85′ N lat., 122°15.95′ W long.;

(xxix) 36°12.30′ N lat., 122°10.19′ W long.;

(xxx) 36°09.95′ N lat., 122°03.73′ W long.;

(xxxi) 36°09.93′ N lat., 121°56.57′ W long.;

(xxxii) 36°11.89′ N lat., 121°55.81′ W long.;

(xxxiii) 36°12.58′ N lat., 121°58.55′ W long.;

(xxxiv) 36°13.95′ N lat., 121°58.45′ W long.;

(xxxv) 36°14.84′ N lat., 122°00.28′ W long.; and

(xxxvi) 36°15.21′ N lat., 121°58.83′ W long.

(2) North. This area is a northern expansion in the vicinity of Point Sur Platform and is defined as the areas within the West Coast EEZ shoreward (east) of a boundary line defined by connecting the following coordinates in the order stated:

(i) 36°15.74′ N lat., 121°56.75′ W long.;

(ii) 36°15.21′ N lat., 121°58.83′ W long.;

(iii) 36°16.66′ N lat., 122°01.19′ W long.;

(iv) 36°17.95′ N lat., 122°02.25′ W long.;

(v) 36°18.56′ N lat., 122°01.53′ W long.; and

(vi) 36°17.65′ N lat., 121°57.85′ W long.

(3) Northeast. This area is a northeastern expansion in the vicinity of Partington Point and Lopez Point and is defined as the areas within the West Coast EEZ shoreward (east) of a boundary line defined by connecting the following coordinates in the order stated:

(i) 36°02.32′ N lat., 121°39.40′ W long.;

(ii) 35°58.89′ N lat., 121°45.38′ W long.;

(iii) 35°59.00′ N lat., 121°50.49′ W long.; and

(iv) 36°07.36′ N lat., 121°43.26′ W long.

(ee) Davidson Seamount. The boundary of the Davidson Seamount EFHCA is defined by straight lines connecting the following points in the order stated and connecting back to 35°54.00′ N lat., 123°00.00′ W long.:

(1) 35°54.00′ N lat., 123°00.00′ W long.;

(2) 35°54.00′ N lat., 122°30.00′ W long.;

(3) 35°30.00′ N lat., 122°30.00′ W long.; and

(4) 35°30.00′ N lat., 123°00.00′ W long.

(ff) La Cruz Canyon. The boundary of the La Cruz Canyon EFHCA is defined by straight lines connecting all of the following points in the order stated and connecting back to 35°42.85′ N lat., 121°25.92′ W long.:

(1) 35°42.85′ N lat., 121°25.92′ W long.;

(2) 35°42.83′ N lat., 121°26.31′ W long.;

(3) 35°43.63′ N lat., 121°26.92′ W long.;

(4) 35°45.14′ N lat., 121°27.61′ W long.;

(5) 35°46.88′ N lat., 121°27.80′ W long.;

(6) 35°49.15′ N lat., 121°29.43′ W long.;

(7) 35°49.53′ N lat., 121°28.71′ W long.;

(8) 35°49.15′ N lat., 121°27.84′ W long.;

(9) 35°48.68′ N lat., 121°27.58′ W long.;

(10) 35°47.84′ N lat., 121°27.75′ W long.;

(11) 35°46.50′ N lat., 121°26.57′ W long.;

(12) 35°45.40′ N lat., 121°25.99′ W long.;

(13) 35°44.19′ N lat., 121°24.69′ W long.; and

(14) 35°43.83′ N lat., 121°26.52′ W long.

(gg) West of Piedras Blancas State Marine Conservation Area. The boundary of the West of Piedras Blancas SMCA EFHCA is defined as the areas within the West Coast EEZ shoreward (east) of a boundary line defined by connecting the following coordinates in the order stated:

(1) 35°39.12′ N lat., 121°20.94′ W long.;

(2) 35°39.11′ N lat., 121°21.32′ W long.;

(3) 35°40.63′ N lat., 121°22.63′ W long.;

(4) 35°42.84′ N lat., 121°23.67′ W long.; and

(5) 35°42.85′ N lat., 121°22.81′ W long.

(hh) East San Lucia Bank. The boundary of the East San Lucia Bank EFHCA is defined by straight lines connecting all of the following points in the order stated and connecting back to 34°45.09′ N. lat., 121°05.73′ W. long.:

(1) 34°45.09′ N lat., 121°05.73′ W long.;

(2) 34°39.90′ N lat., 121°10.30′ W long.;

(3) 34°43.39′ N lat., 121°14.73′ W long.;

(4) 34°52.83′ N lat., 121°14.85′ W long.; and

(5) 34°52.82′ N lat., 121°05.90′ W long.

(ii) Point Conception. The boundary of the Point Conception EFHCA is defined by straight lines connecting all of the following points in the order stated and connecting back to 34°29.24′ N lat., 120°36.05′ W long.:

(1) 34°29.24′ N lat., 120°36.05′ W long.;

(2) 34°28.57′ N lat., 120°34.44′ W long.;

(3) 34°26.81′ N lat., 120°33.21′ W long.;

(4) 34°24.54′ N lat., 120°32.23′ W long.;

(5) 34°23.41′ N lat., 120°30.61′ W long.;

(6) 33°53.05′ N lat., 121°05.19′ W long.;

(7) 34°13.64′ N lat., 121°20.91′ W long.;

(8) 34°40.04′ N lat., 120°54.01′ W long.;

(9) 34°36.41′ N lat., 120°43.48′ W long.;

(10) 34°33.50′ N lat., 120°43.72′ W long.;

(11) 34°31.22′ N lat., 120°42.06′ W long.;

(12) 34°30.04′ N lat., 120°40.27′ W long.;

(13) 34°30.02′ N lat., 120°40.23′ W long.; and

(14) 34°29.26′ N lat., 120°37.89′ W long.

(jj) Harris Point. The boundary of the Harris Point EFHCA is defined by the mean high water line and straight lines connecting all of the following points in the order stated:

(1) 34°03.10′ N lat., 120°23.30′ W long.;

(2) 34°12.50′ N lat., 120°23.30′ W long.;

(3) 34°12.50′ N lat., 120°18.40′ W long.;

(4) 34°01.80′ N lat., 120°18.40′ W long.;

(5) 34°02.90′ N lat., 120°20.20′ W long.; and

(6) 34°03.50′ N lat., 120°21.30′ W long.

(kk) Harris Point Exception. An exemption to the Harris Point reserve, where commercial and recreational take of living marine resources is allowed, exists between the mean high water line in Cuyler Harbor and a straight line connecting all of the following points:

(1) 34°02.90′ N lat., 120°20.20′ W long.; and

(2) 34°03.50′ N lat., 120°21.30′ W long.

(ll) Richardson Rock. The boundary of the Richardson Rock EFHCA is defined by straight lines connecting all of the following points in the order stated and connecting back to 34°10.40′ N lat., 120°28.20′ W long.:

(1) 34°10.40′ N lat., 120°28.20′ W long.;

(2) 34°10.40′ N lat., 120°36.29′ W long.;

(3) 34°02.21′ N lat., 120°36.29′ W long.; and

(4) 34°02.21′ N lat., 120°28.20′ W long.

(mm) Scorpion. The boundary of the Scorpion EFHCA is defined by the mean high water line and a straight line connecting all of the following points in the order stated:

(1) 34°02.94′ N lat., 119°35.50′ W long.;

(2) 34°09.35′ N lat., 119°35.50′ W long.;

(3) 34°09.35′ N lat., 119°32.80′ W long.; and

(4) 34°02.80′ N lat., 119°32.80′ W long.

(nn) Painted Cave. The boundary of the Painted Cave EFHCA is defined by the mean high water line and a straight line connecting all of the following points in the order stated:

(1) 34°04.50′ N lat., 119°53.00′ W long.;

(2) 34°05.20′ N lat., 119°53.00′ W long.;

(3) 34°05.00′ N lat., 119°51.00′ W long.; and

(4) 34°04.00′ N lat., 119°51.00′ W long.

(oo) Anacapa Island. The boundary of the Anacapa Island EFHCA is defined by the mean high water line and straight lines connecting all of the following points in the order stated:

(1) 34°00.80′ N lat., 119°26.70′ W long.;

(2) 34°05.00′ N lat., 119°26.70′ W long.;

(3) 34°05.00′ N lat., 119°21.40′ W long.; and

(4) 34°01.00′ N lat., 119°21.40′ W long.

(pp) Carrington Point. The boundary of the Carrington Point EFHCA is defined by the mean high water line and straight lines connecting all of the following points:

(1) 34°01.30′ N lat., 120°05.20′ W long.;

(2) 34°04.00′ N lat., 120°05.20′ W long.;

(3) 34°04.00′ N lat., 120°01.00′ W long.;

(4) 34°00.50′ N lat., 120°01.00′ W long.; and

(5) 34°00.50′ N lat., 120°02.80′ W long.

(qq) Judith Rock. The boundary of the Judith Rock EFHCA is defined by the mean high water line and a straight line connecting all of the following points in the order stated:

(1) 34°01.80′ N lat., 120°26.60′ W long.;

(2) 33°58.50′ N lat., 120°26.60′ W long.;

(3) 33°58.50′ N lat., 120°25.30′ W long.; and

(4) 34°01.50′ N lat., 120°25.30′ W long.

(rr) Skunk Point. The boundary of the Skunk Point EFHCA is defined by the mean high water line and straight lines connecting all of the following points in the order stated:

(1) 33°59.00′ N lat., 119°58.80′ W long.;

(2) 33°59.00′ N lat., 119°58.02′ W long.;

(3) 33°57.10′ N lat., 119°58.00′ W long.; and

(4) 33°57.10′ N lat., 119°58.20′ W long.

(ss) Footprint. The boundary of the Footprint EFHCA is defined by straight lines connecting all of the following points in the order stated and connecting back to 33°59.00′ N lat., 119°26.00′ W long.:

(1) 33°59.00′ N lat., 119°26.00′ W long.;

(2) 33°59.00′ N lat., 119°31.00′ W long.;

(3) 33°54.11′ N lat., 119°31.00′ W long.; and

(4) 33°54.11′ N lat., 119°26.00′ W long.

(tt) Gull Island. The boundary of the Gull Island EFHCA is defined by the mean high water line and straight lines connecting all of the following points in the order stated:

(1) 33°58.02′ N lat., 119°51.00′ W long.;

(2) 33°58.02′ N lat., 119°53.00′ W long.;

(3) 33°51.63′ N lat., 119°53.00′ W long.;

(4) 33°51.62′ N lat., 119°48.00′ W long.; and

(5) 33°57.70′ N lat., 119°48.00′ W long.

(uu) South Point. The boundary of the South Point EFHCA is defined by the mean high water line and straight lines connecting all of the following points in the order stated:

(1) 33°55.00′ N lat., 120°10.00′ W long.;

(2) 33°50.40′ N lat., 120°10.00′ W long.;

(3) 33°50.40′ N lat., 120°06.50′ W long.; and

(4) 33°53.80′ N lat., 120°06.50′ W long.

(vv) Hidden Reef/Kidney Bank. The boundary of the Hidden Reef/Kidney Bank EFHCA is defined by straight lines connecting all of the following points in the order stated and connecting back to 33°48.00′ N lat., 119°15.06′ W long.:

(1) 33°48.00′ N lat., 119°15.06′ W long.;

(2) 33°48.00′ N lat., 118°57.06′ W long.;

(3) 33°33.00′ N lat., 118°57.06′ W long.; and

(4) 33°33.00′ N lat., 119°15.06′ W long.

(ww) Catalina Island. The boundary of the Catalina Island EFHCA is defined by straight lines connecting all of the following points in the order stated and connecting back to 33°34.71′ N lat., 118°11.40′ W long.:

(1) 33°34.71′ N lat., 118°11.40′ W long.;

(2) 33°25.88′ N lat., 118°03.76′ W long.;

(3) 33°11.69′ N lat., 118°09.21′ W long.;

(4) 33°19.73′ N lat., 118°35.41′ W long.;

(5) 33°23.90′ N lat., 118°35.11′ W long.;

(6) 33°25.68′ N lat., 118°41.66′ W long.;

(7) 33°30.25′ N lat., 118°42.25′ W long.;

(8) 33°32.73′ N lat., 118°38.38′ W long.; and

(9) 33°27.07′ N lat., 118°20.33′ W long.

(xx) Santa Barbara. The Santa Barbara EFHCA is defined by the mean high water line and straight lines connecting all of the following points in the order stated:

(1) 33°28.50′ N lat., 119°01.70′ W long.;

(2) 33°28.50′ N lat., 118°54.54′ W long.;

(3) 33°21.78′ N lat., 118°54.54′ W long.;

(4) 33°21.78′ N lat., 119°02.20′ W long.; and

(5) 33°27.90′ N lat., 119°02.20′ W long.

(yy) Potato Bank. Potato Bank is within the Western Cowcod Conservation Area, defined at § 660.70. The boundary of the Potato Bank EFHCA is defined by straight lines connecting all of the following points in the order stated and connecting back to 33°11.00' N lat., 119°55.67' W long.:

(1) 33°11.00′ N lat., 119°55.67′ W long.;

(2) 33°21.00′ N lat., 119°55.67′ W long.;

(3) 33°21.00′ N lat., 119°45.67′ W long.; and

(4) 33°11.00′ N lat., 119°45.67′ W long.

(zz) Cherry Bank. Cherry Bank is within the Cowcod Conservation Area West, an area south of Point Conception. The Cherry Bank EFH Conservation Area is defined by straight lines connecting all of the following points in the order stated and connecting back to 32°59.00′ N lat., 119°32.05′ W long.:

(1) 32°59.00′ N lat., 119°32.05′ W long.;

(2) 32°59.00′ N lat., 119°17.05′ W long.;

(3) 32°46.00′ N lat., 119°17.05′ W long.; and

(4) 32°46.00′ N lat., 119°32.05′ W long.

(aaa) Cowcod EFHCA East. The Cowcod EFHCA East is defined by straight lines connecting all of the following points in the order stated and connecting back to 32°41.15′ N lat., 118°02.00′ W long.:

(1) 32°41.15′ N lat., 118°02.00′ W long.;

(2) 32°42.00′ N lat., 118°02.00′ W long.;

(3) 32°42.00′ N lat., 117°50.00′ W long.;

(4) 32°36.70′ N lat., 117°50.00′ W long.;

(5) 32°30.00′ N lat., 117°53.50′ W long.;

(6) 32°30.00′ N lat., 118°02.00′ W long.; and

(7) 32°40.49′ N lat., 118°02.00′ W long.

(bbb) Southern California Bight. The boundary of the Southern California Bight EFHCA is defined as the area that includes all waters within the West Coast EEZ that is: south of a straight line connecting 34°02.65′ N lat., 120°54.25′ W long. and 34°23.09′ N lat., 120°30.98′ W long.; shoreward (east and northeast) of the boundary line approximating the 700-fm (1280-m) depth contour, defined at § 660.76(b) and seaward (south and southwest) of a line defined by the inner boundary of the West Coast EEZ and a series of straight lines connecting the coordinates listed below in the order stated. The straight line segments and coordinates defined below exclude nearshore portions of the West Coast EEZ from this EFHCA.

(1) Northern Boundary. The northern boundary of the Southern California Bight EFHCA is a straight line connecting the following points in the order stated.

(i) 34°02.68′ N lat., 120°54.30′ W long.; and

(ii) 34°23.09′ N lat., 120°30.98′ W long.

(2) Santa Barbara Channel. In the area of the Santa Barbara Channel, the EFHCA extends seaward/southwest of a boundary line defined by straight lines connecting the following points in the order stated:

(i) 34°02.68′ N lat., 120°54.30′ W long.;

(ii) 34°23.09′ N lat., 120°30.98′ W long.;

(iii) 34°21.64′ N lat., 120°25.32′ W long.;

(iv) 34°23.55′ N lat., 120°15.12′ W long.;

(v) 34°20.15′ N lat., 119°57.09′ W long.;

(vi) 34°16.84′ N lat., 119°49.14′ W long.;

(vii) 34°11.24′ N lat., 119°42.12′ W long.;

(viii) 34°11.30′ N lat., 119°37.11′ W long.;

(ix) 34°09.89′ N lat., 119°29.78′ W long.;

(x) 34°09.19′ N lat., 119°27.45′ W long.;

(xi) 34°04.70′ N lat., 119°15.38′ W long.;

(xii) 34°03.33′ N lat., 119°12.93′ W long.; and

(xiii) 34°02.84′ N lat., 119°07.92′ W long.

(3) Santa Monica Bay. In the area of Santa Monica bay, the EFHCA extends seaward/southwest of a boundary line defined by straight lines connecting the following points in the order stated:

(i) 33°58.64′ N lat., 118°44.34′ W long.;

(ii) 33°55.90′ N lat., 118°36.39′ W long.;

(iii) 33°53.54′ N lat., 118°39.81′ W long.;

(iv) 33°50.10′ N lat., 118°36.30′ W long.; and

(v) 33°46.75′ N lat., 118°29.33′ W long.

(4) San Pedro Bay. In the area between Long Beach, CA and Newport Beach, CA, the EFHCA extends seaward/southwest of a boundary line defined by straight lines connecting the following points in the order stated:

(i) 33°39.28′ N lat., 118°16.82′ W long.;

(ii) 33°35.78′ N lat., 118°17.28′ W long.;

(iii) 33°33.74′ N lat., 118°12.53′ W long.;

(iv) 33°34.71′ N lat., 118°11.40′ W long.;

(v) 33°32.69′ N lat., 118°09.66′ W long.; and

(vi) 33°33.70′ N lat., 117°57.43′ W long.

(5) San Clemente. In the area between Dana Point, CA and Oceanside, CA, the EFHCA extends seaward/southwest of a boundary line defined by straight lines connecting the following points in the order stated:

(i) 33°24.37′ N lat., 117°42.49′ W long.;

(ii) 33°16.07′ N lat., 117°34.74′ W long.; and

(iii) 33°09.00′ N lat., 117°25.27′ W long.

(6) San Diego. In the area west of San Diego, CA, the EFHCA extends seaward/west of a boundary line defined by straight lines connecting the following points in the order stated:

(i) 32°51.02′ N lat., 117°20.47′ W long.;

(ii) 32°46.31′ N lat., 117°23.44′ W long.;

(iii) 32°42.68′ N lat., 117°20.98′ W long.; and

(iv) 32°34.18′ N lat., 117°21.08′ W long.

15. In § 660.111, revise the introductory text and add definitions for “Block area closures or BACs”, “Columbia River Salmon Conservation Zone”, “Klamath River Salmon Conservation Zone”, and “Stow or stowed” in alphabetical order to read as follows:

§ 660.111 Trawl fishery—definitions.

These definitions are specific to the limited entry trawl fisheries covered in this subpart. General groundfish definitions are found at § 660.11.

* * * * *

Block area closures or BACs are a type of groundfish conservation area, defined at § 660.11, bounded on the north and south by commonly used geographic coordinates, defined at § 660.11, and on the east and west by boundary lines approximating depth contours, defined with latitude and longitude coordinates at §§ 660.71 through 660.74. BACs may be implemented or modified, off Oregon and California, as routine management measures, per regulations at § 660.60(c). BACs may vary in their shape and duration. Their shape and effective dates will be announced in the Federal Register. BACs may have a specific re-opening date as described in the Federal Register, or may be in effect until modified. BACs that are in effect until modified by Council recommendation and subsequent NMFS action are set out in Tables 1 (North) and 1 (South) of this subpart.

* * * * *

Columbia River Salmon Conservation Zone means the ocean area surrounding the Columbia River mouth bounded by a line extending for 6 nm due west from North Head along 46°18′ N lat. to 124°13.30′ W long., then southerly along a line of 167 True to 46°11.10′ N lat. and 124°11′ W long. (Columbia River Buoy), then northeast along Red Buoy Line to the tip of the south jetty.

* * * * *

Klamath River Salmon Conservation Zone means the ocean area surrounding the Klamath River mouth bounded on the north by 41°38.80′ N lat. (approximately 6 nm north of the Klamath River mouth), on the west by 124°23′ W long. (approximately 12 nm from shore), and on the south by 41°26.80′ N lat. (approximately 6 nm south of the Klamath River mouth).

* * * * *

Stow or stowed, for the purposes of this subpart, means the subject trawl gear is either stored below deck; or, if the gear cannot readily be moved, must be stowed in a secured and covered manner detached from all towing lines so that it is rendered unusable for fishing; or, if remaining on deck uncovered, must be stowed disconnected from the trawl doors with the trawl doors hung from their stanchions.

* * * * *

16. In § 660.112, revise the introductory text and paragraphs (a)(5)(i) through (vii) and remove (a)(5)(viii).

The revisions read as follows:

§ 660.112 Trawl fishery—prohibitions.

In addition to the general prohibitions specified in § 660.12 and § 600.725 of this chapter, it is unlawful for any person or vessel to:

* * * * *

(a) * * *

(5) * * *

(i) Operate any vessel registered to a limited entry permit with a trawl endorsement in an applicable GCA (defined at §§ 660.11 and 660.130), except for purposes of continuous transiting (defined at § 660.11), unless all groundfish trawl gear on board is stowed (as defined at § 660.111), or unless otherwise authorized at § 660.130.

(ii) Fish with bottom trawl gear (defined at § 660.11) anywhere within EFH seaward of a line approximating the 700-fm (1,280-m) depth contour, as defined in § 660.76. For the purposes of regulation, EFH seaward of 700-fm (1,280-m) within the EEZ is described at § 660.75.

(iii) Fish with bottom trawl gear (defined at § 660.11) with a footrope diameter greater than 19 inches (48 cm) (including rollers, bobbins or other material encircling or tied along the length of the footrope) anywhere within EFH within the EEZ. For the purposes of regulation, EFH within the EEZ is described at § 660.75.

(iv) Fish with bottom trawl gear (defined at § 660.11) with a footrope diameter greater than 8 inches (20 cm) (including rollers, bobbins or other material encircling or tied along the length of the footrope) anywhere within the EEZ shoreward of a line approximating the 100-fm (183-m) depth contour (defined at § 660.73).

(v) Fish with bottom trawl gear (defined at § 660.11), within the EEZ in the following EFHCAs areas (defined at §§ 660.77 and 660.78): Olympic 2, Biogenic 1, Biogenic 2, Quinault Canyon, Grays Canyon, Willapa Canyonhead, Willapa Deep, Biogenic 3, Astoria Deep, Astoria Canyon, Nehalem Bank/Shale Pile, Garibaldi Reef North, Garibaldi Reef South, Siletz Deepwater, Daisy Bank/Nelson Island, Newport Rockpile/Stonewall Bank, Hydrate Ridge, Heceta Bank, Deepwater off Coos Bay, Arago Reef, Bandon High Spot, Rogue Canyon, and Rogue River Reef.

(vi) Fish with bottom trawl gear (defined at § 660.11), other than demersal seine, unless otherwise specified in this section or § 660.130, within the EEZ in the following EFHCAs areas (defined at § 660.79): Brush Patch, Trinidad Canyon, Mad River Rough Patch, Samoa Deepwater, Eel River Canyon, Blunts Reef, Mendocino Ridge, Delgada Canyon, Tolo Bank, Navarro Canyon, Point Arena North, Point Arena South Biogenic Area, The Football, Gobbler's Knob, Point Reyes Reef, Cordell Bank/Biogenic Area, Rittenburg Bank, Farallon Islands/Fanny Shoal/Cochrane Bank, Farallon Escarpment, Half Moon Bay, Pescadero Reef, Pigeon Point Reef, Ascension Canyonhead, South of Davenport, Monterey Bay/Canyon, West of Sobranes Point, Point Sur Deep, Big Sur Coast/Port San Luis, La Cruz Canyon, West of Piedras Blancas State Marine Conservation Area, East San Lucia Bank, Point Conception, Hidden Reef/Kidney Bank (within Cowcod Conservation Area West), Catalina Island, Potato Bank (within Cowcod Conservation Area West), Cherry Bank (within Cowcod Conservation Area West), Cowcod EFHCA Conservation Area East, and Southern California Bight.

(vii) Fish with bottom contact gear (defined at § 660.11) within specific EFHCAs and the DECA, consistent with the prohibitions at § 660.12(a)(4), (16) through (18).

* * * * *

17. In § 660.130, revise paragraphs (a), (c), and (e) and add paragraph (f) to read as follows:

§ 660.130 Trawl fishery—management measures.

(a) General. This section applies to the limited entry trawl fishery. Most species taken in the limited entry trawl fishery will be managed with quotas (see § 660.140), allocations or set-asides (see § 660.150 or § 660.160), or cumulative trip limits (see trip limits in Tables 1 (North) and 1 (South) of this subpart), size limits (see § 660.60 (h)(5)), seasons (see Pacific whiting at § 660.131(b), subpart D), gear restrictions (see paragraphs (b) and (c) of this section) and closed areas (see paragraphs (c) and (e) of this section and §§ 660.70 through 660.79). The limited entry trawl fishery has gear requirements and harvest limits that differ by the type of groundfish trawl gear on board and the area fished. Groundfish vessels operating south of Point Conception must adhere to CCA restrictions (see paragraph (e)(1) of this section and § 660.70). The trip limits in Tables 1 (North) and 1 (South) of this subpart applies to vessels participating in the limited entry trawl fishery and may not be exceeded. Federal commercial groundfish regulations are not intended to supersede any more restrictive state commercial groundfish regulations relating to federally-managed groundfish.

* * * * *

(c) Restrictions by limited entry trawl gear type. Management measures may vary depending on the type of trawl gear (i.e., large footrope, small footrope, selective flatfish, or midwater trawl gear) used and/or on board a vessel during a fishing trip, cumulative limit period, and the area fished. Trawl nets may be used on and off the seabed. For some species or species groups, Table 1 (North) and Table 1 (South) of this subpart provide trip limits that are specific to different types of trawl gear: Large footrope, small footrope (including selective flatfish), selective flatfish, midwater, and multiple types. If Table 1 (North) and Table 1 (South) of this subpart provide gear specific limits or closed areas for a particular species or species group, prohibitions at §§ 660.12 and 660.112(a)(5) apply. Additional conservation areas applicable to vessels registered to limited entry permits with trawl endorsements are listed at paragraph (e) of this section.

(1) Fishing with large footrope trawl gear—(i) North of 46°16′ N lat. It is unlawful for any vessel using large footrope gear to fish for groundfish shoreward of the trawl RCA, defined at § 660.11 and with latitude and longitude coordinates at §§ 660.71 through 660.74. The use of large footrope gear is allowed where bottom trawling is allowed seaward of the trawl RCA.

(ii) South of 46°16′ N lat. It is unlawful for any vessel using large footrope gear to fish for groundfish shoreward of the boundary line approximating the 100 fm (183 m) depth contour defined with latitude and longitude coordinates at § 660.73. The use of large footrope gear is allowed where bottom trawling is allowed seaward of the boundary line approximating the 100 fm (183 m) depth contour.

(2) Fishing with small footrope trawl gear. The use of small footrope bottom trawl gear is allowed in all areas where bottom trawling is allowed with the following requirements:

(i) Fishing with selective flatfish trawl gear. The use of selective flatfish trawl gear, a type of small footrope trawl gear, is allowed in all areas where bottom trawling is allowed. Selective flatfish trawl gear is required shoreward of the boundary line approximating the 100 fm (183 m) depth contour between 42° N lat. and 40°10′ N lat. and fishing with all other types of small footrope trawl gear is prohibited in this area.

(ii) Salmon bycatch mitigation restrictions. The use of small footrope trawl, other than selective flatfish trawl gear, is prohibited between 42° N lat. and 40°10′ N lat.

(iii) Salmon conservation area restrictions. The use of small footrope trawl, other than of selective flatfish trawl gear, is prohibited inside the Klamath River Salmon Conservation Zone and the Columbia River Salmon Conservation Zone (defined at § 660.131(e)(8)).

(3) Fishing with limited entry midwater trawl gear—(i) North of 40°10′ N lat., limited entry midwater trawl gear is required for vessels declared into the Pacific whiting fishery; limited entry midwater trawl gear is allowed for vessels declared into the non-whiting Shorebased IFQ Program during the Pacific whiting primary season.

(ii) South of 40°10′ N lat., vessels declared into limited entry midwater trawl are prohibited from operating, other than for the purpose of continuous transiting with prohibited gear stowed, shoreward of the boundary line approximating the 150 fm (274 m) depth contour, as defined with latitude and longitude coordinates at § 660.73. Vessels declared limited entry midwater trawl may operate seaward of a boundary line approximating the 150 fm (274 m) depth contour. See also paragraph (c)(4)(ii) of this section for additional restrictions.

(4) More than one type of trawl gear on board. The trip limits in Table 1 (North) or Table 1 (South) of this subpart must not be exceeded. A vessel may not have both groundfish trawl gear and non-groundfish trawl gear onboard simultaneously. A vessel may have more than one type of limited entry trawl gear on board (midwater, large or small footrope, including selective flatfish trawl), either simultaneously or successively, during a cumulative limit period except between 42° N lat. and 40°10′ N lat. as described in this section. If a vessel fishes both north and south of 40°10′ N lat. with any type of small or large footrope gear onboard the vessel at any time during the cumulative limit period, the most restrictive cumulative limit associated with the gear on board would apply for that trip and all catch would be counted toward that cumulative limit (See crossover provisions at § 660.60(h)(7)). When operating in an applicable GCA, all trawl gear must be stowed, consistent with prohibitions at § 660.112(a)(5)(i), unless authorized in this section.

(i) Vessels operating north of 40°10′ N lat.—(A) Limited entry bottom trawl gears. A vessel may have more than one type of limited entry bottom trawl gear on board (large or small footrope, including selective flatfish trawl), either simultaneously or successively, during a cumulative limit period with the following exception: between 42° N lat. and 40°10′ N lat. and shoreward of the boundary line approximating the 100 fm (183 m) depth contour defined with latitude and longitude coordinates at § 660.73. In this area, vessels may not have any type of small footrope trawl gear other than selective flatfish trawl gear on board when fishing, per prohibitions at § 660.112(a)(5)(i).

(B) Limited entry midwater trawl gears. A vessel may have more than one type of midwater groundfish trawl gear on board, either simultaneously or successively, during a cumulative limit period.

(C) Limited entry selective flatfish trawl gear. If a vessel fishes exclusively with selective flatfish trawl gear during an entire cumulative limit period, then the vessel is subject to the selective flatfish trawl gear-cumulative limits during that limit period, regardless of whether the vessel is fishing shoreward or seaward of the trawl RCA or the boundary line approximating the 100 fm (183 m) depth contour defined with latitude and longitude coordinates at § 660.73.

(D) Cumulative limits. If a vessel fishes exclusively with large or small footrope trawl gear during an entire cumulative limit period, the vessel is subject to the cumulative limits for that gear. If more than one type of groundfish bottom trawl gear (selective flatfish, large footrope, or small footrope) is on board, either simultaneously or successively, at any time during a cumulative limit period, then the most restrictive cumulative limit associated with the groundfish bottom trawl gear on board during that cumulative limit period applies for the entire cumulative limit period.

(ii) Vessels operating south of 40°10′ N lat.—(A) Limited entry bottom trawl gears. A vessel may have more than one type of limited entry bottom trawl gear on board (large or small footrope, including selective flatfish trawl), either simultaneously or successively, during a cumulative limit period.

(B) Limited entry midwater trawl gear. Vessels may not operate, other than transiting through, with limited entry midwater trawl gear on board that is not stowed, consistent with § 660.112(a)(5), in the area shoreward of the boundary line approximating the 150 fm (274 m) depth contour defined with latitude and longitude coordinates at § 660.73. If a vessel fishes with limited entry bottom trawl gear in this area, vessels may have midwater trawl gear on board that is stowed, consistent with § 660.112(a)(5), and may fish seaward of the boundary line approximating the 150 fm (274 m) depth contour on the same trip with appropriate declaration changes. Vessels with groundfish on board harvested using limited entry midwater trawl gear may transit the area shoreward of the boundary line approximating the 150 fm (274 m) depth contour defined with latitude and longitude coordinates at § 660.73 if the midwater gear is stowed consistent with § 660.112(a)(5).

* * * * *

(e) Groundfish conservation areas (GCAs). GCAs are closed areas, defined at § 660.11, and using latitude and longitude coordinates specified at §§ 660.70 through 660.74. This paragraph describes GCAs applicable to the limited entry trawl fishery, per prohibitions at § 660.112(a)(5), and exceptions to those closures. Vessels with trawl gear on board that is not stowed, as defined at § 660.111, may not operate within a GCA listed in this section, unless authorized in this section. Vessels may not take and retain, possess, or land groundfish taken within an applicable GCA, except as authorized in this paragraph. A vessel authorized to fish within an applicable GCA may simultaneously have other groundfish trawl gear on board the vessel that is unlawful to use for fishing within the applicable GCAs, but only if the prohibited gear is stowed, as defined at § 660.111. Continuous transit, with or without groundfish on board, is allowed within an applicable GCA, only when all prohibited trawl gear on board stowed, as defined at § 660.111. Additional closed areas that specifically apply to vessels using limited entry midwater trawl gear are described at § 660.131(c).

(1) Cowcod conservation areas (CCAs). This closure applies to vessels with limited entry trawl gear on board. Limited entry trawl vessels may transit through the Western CCA within the transit corridor, defined at § 660.70.

(2) Farallon islands. Under California law, commercial fishing for all groundfish is prohibited around the Farallon Islands, as defined at § 660.70. Vessels may transit through with all trawl gear stowed.

(3) Cordell Banks. Commercial fishing for groundfish is prohibited in waters of depths less than 100-fm (183-m) around Cordell Banks, defined at § 660.70. Vessels may transit through with all trawl gear stowed.

(4) Trawl RCA. This GCA is off the coast of Washington, between the US/Canada border and 46°16′ N lat. Boundaries for the trawl RCA applicable to groundfish trawl vessels throughout the year are provided in the header to Table 1 (North) of this subpart and may be modified by NMFS inseason pursuant to § 660.60(c). Prohibitions at § 660.112(a)(5) do not apply under the following conditions and when the vessel has a valid declaration for the allowed fishing:

(i) Limited entry midwater trawl gear. Limited entry midwater trawl gear may be used within the trawl RCA by vessels targeting Pacific whiting or non-whiting when it is an authorized gear type for the area and season. If a vessel fishes in the trawl RCA using midwater trawl gear, it may also fish outside the trawl RCA with limited entry trawl gear on the same trip with appropriate declaration changes.

(ii) Transiting. A vessel authorized to operate in the trawl RCA may continuously transit through the trawl RCA, with or without groundfish on board, with prohibited trawl gear stowed, as defined at § 660.111.

(5) Block area closures or BACs. BACs, defined at § 660.111, are applicable to vessels with groundfish bottom trawl gear on board that is not stowed, per the prohibitions in § 660.112(a)(5). When in effect, BACs are areas closed to bottom trawl fishing. A vessel operating, for any purpose other than continuous transiting, in the BAC must have prohibited trawl gear stowed, as defined at § 660.111. Nothing in these Federal regulations supersedes any state regulations that may prohibit trawling shoreward of the fishery management area, defined at § 660.11. Prohibitions at § 660.112(a)(5) do not apply under any of the following conditions and when the vessel has a valid declaration for the allowed fishing:

(i) Limited entry midwater trawl. Limited entry midwater trawl gear may be used within the BAC only when it is an authorized gear type for the area and season. If a vessel fishes in the BAC using midwater trawl gear, it may also fish outside the BAC with groundfish bottom trawl gear on the same trip with appropriate declaration changes.

(ii) Transiting. A vessel authorized to operate in a BAC may continuously transit through the BAC, with or without groundfish on board, with prohibited trawl gear stowed, as defined at § 660.111.

(iii) Multiple gears. If a vessel fishes in a BAC using midwater trawl gear, it may also fish outside the BAC with groundfish bottom trawl gear on the same trip with the appropriate declaration change.

(6) Bycatch reduction areas or BRAs. Vessels using midwater groundfish trawl gear during the applicable Pacific whiting primary season may be prohibited from fishing shoreward of a boundary line approximating the 75 fm (137 m), 100 fm (183 m), 150 fm (274 m), or 200 fm (366 m) depth contours.

(7) Eureka management area midwater trawl trip limits. No more than 10,000-lb (4,536 kg) of whiting may be taken and retained, possessed, or landed by a vessel that, at any time during a fishing trip, fished with midwater groundfish trawl gear in the fishery management area shoreward of the boundary line approximating the 100 fm (183 m) depth contour in the Eureka management area, defined at § 660.11. See also midwater trawl depth restrictions in paragraph (c) of this section.

(8) Salmon conservation zones. Fishing with midwater trawl gear and bottom trawl gear, other than selective flatfish trawl gear, is prohibited in the Klamath River Salmon Conservation Zone and the Columbia River Salmon Conservation Zone (defined at § 660.111).

(f) Essential fish habitat conservation areas. EFHCAs are defined at § 660.11 and at §§ 660.76 through 660.79. EFHCAs apply to vessels using bottom trawl gear or to vessels using bottom contact gear, defined at § 660.11. Vessels may transit through, with or without groundfish on board, with all prohibited gear stowed. EFHCAs closed to bottom trawl gear are listed at § 660.112(a)(5)(v). EFHCAs off California that are closed to bottom trawl gear, except vessels fishing with a valid declaration for demersal seine gear, are listed in § 660.112(a)(5)(vi). EFHCAs closed to bottom contact gear are listed at § 660.12(a)(4), (16) and (17).

18. In § 660.131, revise paragraph (c) to read as follows.

§ 660.131 Pacific whiting fishery management measures.

* * * * *

(c) Closed areas. The conservation areas described here are in addition to conservation areas applicable to vessels operating with midwater trawl gear on board described in § 660.130(c) and (e). Vessels fishing during the Pacific whiting primary seasons shall not target Pacific whiting with midwater groundfish trawl gear in the following portions of the fishery management area:

(1) Klamath river salmon conservation zone, defined at § 660.111.

(2) Columbia river salmon conservation zone, defined at § 660.111.

(3) Bycatch reduction areas or BRAs. Bycatch reduction area closures specified at § 660.130(e) may be implemented inseason through automatic action when NMFS projects that a Pacific whiting sector will exceed an allocation for a non-whiting groundfish species specified for that sector before the sector's whiting allocation is projected to be reached.

* * * * *

19. Table 1 (North) to part 660, subpart D, is revised to read as follows:

Table 1 (North) to Part 660, Subpart D—Limited Entry Trawl Rockfish Conservation Areas and Landing Allowances for Non-IFQ Species and Pacific Whiting North of 40°10′ N Lat.

BILLING CODE 3510-22-P

20. Table 1 (South) to part 660, subpart D, is revised to read as follows:

Table 1 (South) to Part 660, Subpart D—Limited Entry Trawl Landing Allowances for Non-IFQ Species and Pacific Whiting South of 40°10′ N Lat.

BILLING CODE 3510-22-C

21. In § 660.212, revise the introductory text and paragraph (c)(2) and remove paragraph (c)(3).

The revisions read as follows:

§ 660.212 Fixed gear fishery—prohibitions.

These prohibitions are specific to the limited entry fixed gear fisheries and to the limited entry trawl fishery Shorebased IFQ Program under gear switching. In addition to the general prohibitions specified in §§ 660.12 and 600.725 of this chapter, it is unlawful for any person to:

* * * * *

(c) * * *

(2) Fish with bottom contact gear (defined at § 660.11) within specific EFHCAs or the DECA, as specified in § 660.12(a).

* * * * *

22. Amend § 660.230 by:

a. Revising paragraphs (d) introductory text, (d)(10) introductory text, and (d)(11) introductory text;

b. Removing paragraph (d)(14);

c. Adding paragraph (g).

The revisions and addition read as follows:

§ 660.230 Fixed gear fishery—management measures.

* * * * *

(d) Groundfish conservation areas. GCAs are defined by coordinates expressed in degrees of latitude and longitude. The latitude and longitude coordinates of the GCA boundaries are specified at §§ 660.70 through 660.74. A vessel that is authorized by this paragraph to fish within a GCA (e.g., fishing for “other flatfish” using no more than 12 hooks, “Number 2” or smaller), may not simultaneously have other gear on board the vessel that is unlawful to use for fishing within the GCA. The following GCAs apply to vessels participating in the limited entry fixed gear fishery.

* * * * *

(10) Cowcod Conservation Areas. It is unlawful to take and retain, possess, or land groundfish within the CCAs, except for species authorized in this paragraph caught according to gear requirements in this paragraph, when those waters are open to fishing. Commercial fishing vessels may transit through the Western CCA with their gear stowed and groundfish on board only in the transit corridor, defined at § 660.70. Fishing with limited entry fixed gear is prohibited within the CCAs, except as follows:

* * * * *

(11) Nontrawl Rockfish Conservation Area (RCA). The nontrawl RCA is defined at § 660.11 and with latitude and longitude coordinates, at §§ 660.71 through 660.74, where fishing for groundfish with nontrawl gear is prohibited. Boundaries for the nontrawl RCA throughout the year are provided in the header to Table 2 (North) and Table 2 (South) of this subpart and may be modified by NMFS inseason pursuant to § 660.60(c).

* * * * *

(g) Essential Fish Habitat Conservation Areas (EFHCA). EFHCAs, defined at § 660.11 and with latitude and longitude coordinates at §§ 660.75 through 660.79, apply to vessels using bottom contact gear, defined at § 660.11, and includes limited entry fixed gear (e.g., longline and pot/trap,) among other gear types. EFHCAs closed to bottom contact gear are listed at § 660.12(a).

23. Amend § 660.312 by revising the introductory text and paragraphs (d)(3) and (4) and adding paragraphs (d)(5) through (7) to read as follows:

§ 660.312 Open access fishery—prohibitions.

In addition to the general prohibitions specified in §§ 660.12 and 600.725 of this chapter, it is unlawful for any person to:

* * * * *

(d) * * *

(3) Fish with bottom contact gear (defined at § 660.11) within specific EFHCAs or the DECA, as specified in § 660.12(a).

(4) Fish with bottom trawl gear (defined at § 660.11) anywhere within EFH seaward of a line approximating the 700-fm (1280-m) depth contour, as defined in § 660.76. For the purposes of regulation, EFH seaward of 700-fm (1280-m) within the EEZ is described at § 660.75.

(5) Fish with bottom trawl gear (defined at § 660.11) with a footrope diameter greater than 8 inches (20 cm) (including rollers, bobbins or other material encircling or tied along the length of the footrope) anywhere within the EEZ shoreward of a line approximating the 100-fm (183-m) depth contour (defined at § 660.73).

(6) Fish with bottom trawl gear (defined at § 660.11), within the EEZ in the following EFHCAs (defined at §§ 660.77 and 660.78): Olympic 2, Biogenic 1, Biogenic 2, Quinault Canyon, Grays Canyon, Willapa Canyonhead, Willapa Deep, Biogenic 3, Astoria Deep, Astoria Canyon, Nehalem Bank/Shale Pile, Garibaldi Reef North, Garibaldi Reef South, Siletz Deepwater, Daisy Bank/Nelson Island, Newport Rockpile/Stonewall Bank, Hydrate Ridge, Heceta Bank, Deepwater off Coos Bay, Arago Reef, Bandon High Spot, Rogue Canyon, and Rogue River Reef.

(7) Fish with bottom trawl gear (defined at § 660.11), other than demersal seine, unless otherwise specified in this section or § 660.330, within the EEZ in the following EFHCAs (defined at § 660.79): Brush Patch, Trinidad Canyon, Mad River Rough Patch, Samoa Deepwater, Eel River Canyon, Blunts Reef, Mendocino Ridge, Delgada Canyon, Tolo Bank, Navarro Canyon, Point Arena North, Point Arena South Biogenic Area, The Football, Gobbler's Knob, Point Reyes Reef, Cordell Bank/Biogenic Area, Rittenburg Bank, Farallon Islands/Fanny Shoal/Cochrane Bank, Farallon Escarpment, Half Moon Bay, Pescadero Reef, Pigeon Point Reef, Ascension Canyonhead, South of Davenport, Monterey Bay/Canyon, West of Sobranes Point, Point Sur Deep, Big Sur Coast/Port San Luis, La Cruz Canyon, West of Piedras Blancas State Marine Conservation Area, East San Lucia Bank, Point Conception, Hidden Reef/Kidney Bank (within Cowcod Conservation Area West), Catalina Island, Potato Bank (within Cowcod Conservation Area West), Cherry Bank (within Cowcod Conservation Area West), Cowcod EFHCA Conservation Area East, and Southern California Bight.

24. Amend § 660.330 by:

a. Revising paragraphs (d) introductory text and (d)(11) introductory text;

b. Removing paragraph (d)(16); and

c. Adding paragraph (g).

The revisions and addition read as follows:

§ 660.330 Open access fishery—management measures.

* * * * *

(d) Groundfish conservation areas (GCAs). GCAs, a type of closed area, are defined at § 660.11 and with latitude and longitude coordinates at §§ 660.70 through 660.74. A vessel that is authorized by this paragraph to fish within a GCA (e.g., fishing for “other flatfish” using no more than 12 hooks, “Number 2” or smaller), may not simultaneously have other gear on board the vessel that is unlawful to use for fishing within the GCA. The following GCAs apply to vessels participating in the open access groundfish fishery.

* * * * *

(11) Cowcod Conservation Areas (CCAs). It is unlawful to take and retain, possess, or land groundfish within the CCAs, except for species authorized in this paragraph caught according to gear requirements in this paragraph, when those waters are open to fishing. Commercial fishing vessels may transit through the Western CCA with their gear stowed and groundfish on board only in the transit corridor, defined at § 660.70. Fishing with open access gear is prohibited in the CCAs, except as follows:

* * * * *

(g) Essential fish habitat conservation areas (EFHCA). EFHCAs, defined at § 660.11 and with latitude and longitude coordinates at §§ 660.75 through 660.79, apply to vessels using bottom trawl gear or bottom contact gear, defined at § 660.11, and includes non-groundfish trawl gear and limited entry fixed gear (e.g., longline and pot/trap,) among other gear types. EFHCAs closed to bottom contact gear are listed at § 660.12(a). EFHCAs closed to bottom trawl gear are listed at § 660.312(d).

[FR Doc. 2019-24684 Filed 11-18-19; 8:45 am]

BILLING CODE 3510-22-P